DEPARTMENT OF HEALTH AND HUMAN SERVICES

Administration for Children and Families

[Program Announcement No. OCS-2001-02]

Request for Applications for the Office of Community Services' Fiscal Year 2001 Job Opportunities for Low-Income Individuals Program

AGENCY: Office of Community Services, Administration for Children and Families, Department of Health and Human Services.

ACTION: Announcement of availability of funds and request for applications under the Office of Community Services' FY 2001 Job Opportunities for Low-Income Individuals (JOLI) Program.

SUMMARY: The Administration for Children and Families (ACF), Office of Community Services (OCS), announces that, based on availability of funds, competing applications will be accepted for new grants pursuant to the Secretary's discretionary authority under section 505 of the Family Support Act of 1988, as amended.

Closing Date

To be considered for funding, applications must be postmarked on or before November 14, 2000. Detailed application submission instructions including the addresses to which applications must be submitted are found in Part V-B, Application Submission.

FOR FURTHER INFORMATION CONTACT: Administration for Children and Families, Office of Community Services, 370 L'Enfant Promenade SW., Washington, DC 20447. Contact: Nolan Lewis, (202) 401-5282; Carolalene Giles, (202) 401-5261; Aleatha Slade, (202) 401-5317.

In addition, this announcement is accessible on the OCS Website for reading or downloading at: www.acf.dhhs.gov/programs/ocs/kits1.htm.

If this Program Announcement is not available at these sources, it may be obtained by telephoning or writing the office listed under FOR FURTHER INFORMATION CONTACT above.

The Catalog of Federal Domestic Assistance number for this program is “93.593”. The title is “Job Opportunities for Low-Income Individuals Program”.

Table of Contents

Part I—Preamble

A. Legislative Authority

B. Definitions of Terms

C. Purpose

Part II—Background Information and Program Requirements

A. Eligible Applicants

B. Project and Budget Periods

C. Availability of Funds and Grant Amounts

D. Mobilization of Resources

E. Program Participants/Beneficiaries

F. Prohibition and Restrictions on the Use of Funds

G. Multiple Submittals

H. Re-Funding

I. Sub-Contracting or Delegating Projects

J. Maintenance of Effort

Part III—Application Requirements and Priority Areas

A. Program Focus

B. Creation of Jobs and Employment Opportunities

C. Cooperative Partnership Agreement with the Designated Agency Responsible for the Temporary Assistance for Needy Families (TANF) Program

D. Third Party Project Evaluation

E. Economic Development Strategy

F. Training and Support for Micro-Business Development

G. Support for Noncustodial Parents

H. Technical Assistance to Employers

I. Applicant Experience and Cost-per-Job

J. Loan Funds

K. Business Plan

L. Dissemination of Project Results

M. General Projects 1.0 and Community Development Corporations Set-Aside 2.0

N. Third Party Agreements

Part IV—Application Elements and Review Criteria

Part V—Application Procedures

A. Availability of Forms

B. Application Submission

C. Paperwork Reduction Act of 1995

D. Intergovernmental Review

E. Application Consideration

F. Criteria for Screening Applications

Part VI—Instructions for Completion of the SF-424

A. SF-424—Application for Federal Assistance

B. SF-424A—Budget Information—Non-Construction Programs

C. SF-424B—Assurances for Non-Construction

Part VII—Contents of Application and Receipt Process

A. Contents of Application

B. Application Format

C. Acknowledgment of Receipt

Part VIII—Post Award Information and Reporting Requirements

A. Notification of Grant Award

B. Attendance at Evaluation Workshops

C. Reporting Requirements

D. Audit Requirements

E. Prohibitions and Requirements with Regard to Lobbying

F. Applicable Federal Regulations

Part I—Preamble

A. Legislative Authority

Section 505 of the Family Support Act of 1988, Public Law 100-485, as amended, authorizes the Secretary of HHS to enter into agreements with nonprofit organizations (including community development corporations) for the purpose of conducting projects designed to create employment opportunities for certain low-income individuals.

B. Definitions of Terms

For purposes of this Program Announcement, the following definitions apply:

• Budget period: The interval of time into which a multi-year period of assistance (project period) is divided for budgetary and funding purposes.

• Community-level data: Key information to be collected by each grantee that will allow for a national-level analysis of common features of JOLI projects. This consists of data on the population of the target area, including the percentage of Temporary Assistance for Needy Families (TANF) recipients and others on public assistance, and the percentage whose incomes fall below the poverty line; the unemployment rate; the number of new business starts and business closings; and a description of the major employers and average wage rates and employment opportunities with those employers.

• Community development corporation: A private, nonprofit entity, governed by a board of directors consisting of residents of the community and business and civic leaders, that has as a principal purpose planning, developing, or managing low-income housing or community development projects.

• Hypothesis: An assumption made in order to test its validity. It should assert a cause-and-effect relationship between a program intervention and its expected result. Both the intervention and result must be measured in order to confirm the hypothesis. For example, the following is a hypothesis: “Eighty hours of classroom training in small business planning will be sufficient for participants to prepare a successful loan application.” In this example, data would be obtained on the number of hours of training actually received by participants (the intervention), and the quality of loan applications (the result), to determine the validity of the hypothesis (that eighty hours of training is sufficient to produce the result).

• Intervention: Any planned activity within a project that is intended to produce changes in the target population and/or the environment and that can be formally evaluated. For example, assistance in the preparation of a business plan and loan package are planned interventions.

• Job creation: To bring about, by activities and services funded under this program, new jobs, that is, jobs that were not in existence before the start of the project. These activities can include self-employment/micro-enterprise training, the development of new business ventures or the expansion of existing businesses.

• Nonprofit organization: Any organization (including a community development corporation) exempt from taxation under section 501(a) of the Internal Revenue Code of 1986 by reason of paragraph (3) or (4) of section 501(c) of such Code.

• Non-traditional employment for women or minorities: Employment in an industry or field where women or minorities currently make up less than twenty-five percent of the work force.

• Outcome evaluation: An assessment of project results as measured by collected data which define the net effects of the interventions applied in the project. An outcome evaluation will produce and interpret findings related to whether the interventions produced desirable changes and their potential for replicability. It should answer the question: Did this program work?

• Private employers: Third party nonprofit organizations or third party for-profit businesses operating or proposing to operate in the same community as the applicant and which are proposed or potential employers of project participants.

• Process evaluation: The ongoing examination of the implementation of a program. It focuses on the effectiveness and efficiency of the program's activities and interventions (for example, methods of recruiting participants, quality of training activities, or usefulness of follow-up procedures). It should answer questions such as: Who is receiving what services and are the services being delivered as planned? It is also known as formative evaluation because it gathers information that can be used as a management tool to improve the way a program operates while the program is in progress. It should also identify problems that occurred and how they were dealt with and recommend improved means of future implementation. It should answer the question: “How was the program carried out?” In concert with the outcome evaluation, it should also help explain, “Why did this program work/not work?” and “What worked and what did not?”

• Program participant/beneficiary: An individual eligible to receive Temporary Assistance for Needy Families (TANF) under Title I of the Personal Responsibility and Work Opportunity Reconciliation Act of 1996 (Part A of Title IV of the Social Security Act) and any other individual whose income level does not exceed 100 percent of the official poverty line as found in the most recent revision of the Poverty Income Guidelines published by the Department of Health and Human Services. (See Attachment A.)

• Project period: The total time a project is approved for support, including any extensions.

• Self-sufficiency: A condition where an individual or family, by reason of employment, does not need and is not eligible for public assistance.

• Third party: Any individual, organization, or business entity that is not the direct recipient of grant funds.

• Third party agreement: A written agreement entered into by the grantee and an organization, individual or business entity (including a wholly-owned subsidiary), by which the grantee makes an equity investment or a loan in support of grant purposes.

• Third party in-kind contributions: The value of non-cash contributions provided by non-federal third parties which may be in the form of real property, equipment, supplies and other expendable property, and the value of goods and services directly benefitting and specifically identifiable to the project or program.

C. Purpose

The purpose of this program is to conduct projects to create new employment and business opportunities for certain low-income individuals through the provision of technical and financial assistance to private employers in the community, self-employment/micro-enterprise programs, and/or new business development programs.

Part II—Background Information and Program Requirements

A. Eligible Applicants

Organizations eligible to apply for funding under this program are nonprofit organizations (including community development corporations) that are exempt from taxation under Section 501(a) of the Internal Revenue Code of 1986 by reason of paragraph (3) or (4) of Section 501(c) of such Code. Applicants must provide documentation of their tax exempt status. The applicant can accomplish this by providing a copy of the applicant's listing in the Internal Revenue Service's (IRS) most recent list of tax-exempt organizations described in Section 501(c)(3) of the IRS Code or by providing a copy of the currently valid IRS tax exemption certificate. Failure to provide evidence of Section 501(c)(3) or (4) tax exempt status will result in rejection of the application.

B. Project and Budget Periods

The Personal Responsibility and Work Opportunity Reconciliation Act of 1996, Public Law 104-193, reauthorized and modified section 505 of the Family Support Act of 1988, the JOLI authorizing legislation. Among the modifications effected was the deletion of sub-section (e) that had legislatively-mandated project duration. Applicants are therefore free to apply for projects of from one to three years duration, depending on the proposed work program and the applicant's assessment of the time required to achieve the proposed project goals.

OCS has made the programmatic determination that the nature of job creation and career development projects which meet the funding criteria set forth in this announcement is such that it is not feasible to divide funding into 12-month increments, and that completion of the entire project is in each case necessary to achieve the purposes of the JOLI program. Consequently, budget periods for grants under this announcement may be up to three years.

C. Availability of Funds and Grant Amounts

All grant awards are subject to the availability of appropriated funds. It is anticipated that approximately $5,500,000 will be available in FY 2001 for JOLI. OCS estimates that approximately $5,000,000 will be available for new grants and the remaining $500,000 will be set aside for the national evaluation contract for this program.

The 1996 amendments to the JOLI authorizing legislation also deleted the limitation on the number of grants to be made in any one fiscal year. Thus, the Office of Community Services expects to award up to 10 new grants in FY 2001, based on the amounts requested and contingent on the availability of funds. Given the limited funds available for the JOLI program, applicants should make a realistic assessment of the time and funds needed to achieve the goals set forth in their proposal, and design a work program and budget accordingly. The grant request should be for an amount needed, up to a maximum of $500,000, to implement that part of the project plan supported by OCS funds, taking into consideration other cash and in-kind resources mobilized by the applicant in support of the proposed project. (See Paragraph D, below, Mobilization of Resources, and Part IV, Element VI: Budget Appropriateness and Reasonableness.)

In summary, grants of up to $500,000 in OCS funds for project periods and budget periods of up to three years will be awarded to selected organizations under this program in FY 2001.

D. Mobilization of Resources

OCS will give favorable consideration in the review process to applicants who mobilize cash and/or third party in-kind contributions for direct use in the project. The firm commitment of these resources must be documented and submitted with the application in order to be given credit in the review process under the Public-Private Partnerships project element (Part IV, Element V). Except in unusual situations, this documentation must be in the form of letters of commitment from the organization(s)/individual(s) from which resources will be received. Even though there is no matching requirement for the JOLI Program, grantees will be held accountable for any match, cash or in-kind contribution proposed or pledged as part of an approved application. (See Part IV, Element V, and Part VI, Instructions for Completing the SF-424, Section C, Non-Federal Resources.)

E. Program Participants/Beneficiaries

A low-income individual eligible to participate in a project conducted under this program is any individual eligible to receive Temporary Assistance for Needy Families (TANF) under a State program funded under Part A of Title IV of the Social Security Act or any other individual whose income level does not exceed 100 percent of the official poverty line. Within these categories, emphasis should be on individuals who are receiving TANF or its equivalent under State auspices; those who are unemployed; those residing in public housing or receiving housing assistance; non-custodial parents, and those who are homeless.

Attachment A to this announcement is an excerpt from the guidelines currently in effect. Annual revisions of these guidelines are normally published in the Federal Register in February or early March of each year. Grantees will be required to apply the most recent guidelines throughout the project period. These revised guidelines also may be obtained at public libraries, Congressional offices, or by writing the Superintendent of Documents, U.S. Government Printing Office, Washington, DC 20402.

No other government agency or privately-defined poverty guidelines are applicable for the determination of low-income eligibility for this program.

F. Prohibition and Restrictions on the Use of Funds

The use of funds for new construction or the purchase of real property is prohibited. Costs incurred for the rearrangement and alteration of facilities required specifically for the grant program are allowable when specifically approved in advance by ACF in writing.

If the applicant is proposing a project which will affect a property listed in, or is eligible for inclusion in, the National Register of Historic Places, it must identify this property in the narrative and explain how it has complied with the provisions of Section 106 of the National Historic Preservation Act of 1966 as amended. If there is any question as to whether the property is listed in, or is eligible for inclusion in, the National Register of Historic Places, the applicant should consult with the State Historic Preservation Officer. (See Attachment D: SF-424B, Item 13 for additional guidelines.) The applicant should contact OCS early in the development of its application for instructions regarding compliance with the Act and data required to be submitted to the Department of Health and Human Services. Failure to comply with the cited Act will result in the application being ineligible for funding consideration.

G. Multiple Submittals

Due to the limited amount of funds available under this program, only a single proposal from any one eligible applicant will be funded by OCS from FY 2001 JOLI funds pursuant to this announcement.

H. Re-Funding

OCS will not provide funding to a previously funded grantee to carry out the same work plan in the same target area.

I. Sub-Contracting or Delegating Projects

An applicant will not be funded where the proposal indicates that the applicant if funded will serve as a straw-party, that is, act as a mere conduit of funds to a third party without performing a substantive role itself. This prohibition does not bar sub-contracting or sub-awarding for specific services or activities needed to conduct the project.

J. Maintenance of Effort

The application must include an assurance that activities funded under this Program Announcement are in addition to, and not in substitution for, activities previously carried out without Federal assistance. (See Part VII, section A.8 and Attachment M.)

Part III—Application Requirements and Priority Areas

A. Program Focus

The Congressional Conference Report on the 1992 appropriations for the Department of Labor, Health and Human Services, and Education and related agencies directed the ACF to require economic development strategies as part of the application process to ensure that highly qualified organizations participate in the program. [H.R. Conf. Rep. No. 282, 102nd Cong., 1st Sess. 39 (1991)]

Priority will be given to applicants proposing to serve those areas containing the highest percentage of individuals receiving Temporary Assistance to Needy Families (TANF) under a State program funded under Title IV of the Social Security Act.

While projected employment in future years may be included in the application, it is essential that the focus of the project concentrate on the creation of new full-time, permanent jobs and/or new business development opportunities for TANF recipients and other low-income individuals during the duration of the grant project period. OCS is particularly interested in receiving innovative proposals that grow out of the experience and creativity of applicants and the needs of their clientele and communities.

Applicants should include strategies which seek to integrate projects financed and jobs created under this program into a larger effort of broad community revitalization which will promote job and business opportunities for eligible program participants and impact the overall economic environment.

OCS will only fund projects that create new employment and/or business opportunities for eligible program participants. That is, new, full-time permanent jobs through the expansion of a pre-identified business or new business development, or by providing opportunities for self-employment. In addition, projects should enhance the participants' capacities, abilities and skills and thus contribute to their progress toward self-sufficiency.

With national welfare reform a reality, and many States implementing “welfare-to-work” programs, the need for well-paying jobs with career potential for TANF recipients becomes ever more pressing. In this context, the role of JOLI as a vehicle for exploring new and promising areas of employment opportunity for the poor is more important than ever.

Within the JOLI Program framework of job creation through new or expanding businesses or self-employment, OCS would welcome proposals offering business or career opportunities to eligible participants in a variety of fields. For instance, these might include day care and transportation, which are not only opportunities for employment, but when not available can be serious barriers to employment for TANF recipients; environmental justice initiatives involving activities such as toxic waste clean-up, water quality management, or Brownfields remediation; health-related jobs such as home health aides or medical support services; and non-traditional jobs for women and minorities.

B. Creation of Jobs and Employment Opportunities

The requirement for creation of new, full-time permanent employment opportunities (jobs) applies to all applications. OCS has determined that the creation of non-traditional job opportunities for women or minorities in industries or activities where they currently make up less than twenty-five percent of the work force meets the requirements of the JOLI legislation for the creation of new employment opportunities. OCS continues to solicit other JOLI applications that propose the creation of jobs through the expansion of existing businesses, the development of new businesses, or the creation of employment opportunities through self-employment/micro-enterprise development.

Proposed projects must show that the jobs and/or business/self employment opportunities to be created under this program will contribute to achieving self-sufficiency among the target population. The employment opportunities should provide hourly wages that exceed the minimum wage and also provide benefits such as health insurance, child care, and career development opportunities.

C. Cooperative Partnership Agreement With the Designated Agency Responsible for the Temporary Assistance for Needy Families (TANF) Program

A formal, cooperative relationship between the applicant and the designated State agency responsible for administering the Temporary Assistance for Needy Families (TANF) program (as provided for under Part A of Title IV of the Social Security Act) in the area served by the project is a requirement for funding. The application must include a signed, written agreement between the applicant and the designated State agency responsible for administering the TANF program, or a letter of commitment to such an agreement within 6 months of a grant award (contingent only on receipt of OCS funds). The agreement must describe the cooperative relationship, including specific activities and/or actions each of these entities propose to carry out over the course of the grant period in support of the project.

The agreement, at a minimum, must cover the specific services and activities that will be provided to the target population. (See Attachment I for a list of the State Human Services Administrators administering TANF.)

D. Third Party Project Evaluation

Proposals must include provision for an independent, methodologically sound evaluation of the effectiveness of the activities carried out with the grant and their efficacy in creating new jobs and business opportunities. There must be a well-defined process evaluation, and an outcome evaluation whose design will permit tracking of project participants throughout the proposed project period. The evaluation must be conducted by an independent evaluator, i.e., a person with recognized evaluation skills who is organizationally distinct from, and not under the control of, the applicant. It is important that each successful applicant have a third party evaluator selected and performing at the very latest by the time the work program of the project is begun, and if possible before that time, so that he or she can participate in the final design of the program in order to assure that data necessary for the evaluation will be collected and available.

E. Economic Development Strategy

As noted in A. above, the Congress, in the Conference Report on the FY 1992 appropriation, directed ACF to require economic development strategies as part of the application process for JOLI to ensure that highly qualified organizations participate in the program. Accordingly, applicants must include in their proposal an explanation of how the proposed project is integrated with and supports a larger economic development strategy within the target community. Where appropriate, applicants should document how they were involved in the preparation and planned implementation of a comprehensive community-based strategic plan, such as that required for applying for Empowerment Zone/Enterprise Community (EZ/EC) status, to achieve both economic and human development in an integrated manner, and how the proposed project supports the goals of that plan. [See Part IV, Sub-Element III(b).]

F. Training and Support for Micro-Business Development

In the case of proposals for creating self-employment micro-business opportunities for eligible participants, the applicant must detail how it will provide training and support services to potential entrepreneurs. The assistance to be provided to potential entrepreneurs must include, at a minimum: (1) Technical assistance in basic business planning and management concepts; (2) assistance in preparing a business plan and loan application; and (3) access to business loans.

G. Support for Noncustodial Parents

The Office of Community Services and the Office of Child Support Enforcement, both part of the Administration for Children and Families, signed a Memorandum of Understanding (MOU) to foster and enhance partnerships between OCS grantees and local Child Support Enforcement (CSE) agencies. (See Attachment N for the list of CSE State Offices that can identify local CSE agencies.) In the words of the MOU:

The purpose of these partnerships will be to develop and implement innovative strategies in States and local communities to increase the capability of low-income parents and families to fulfill their parental responsibilities. Too many low-income parents are without jobs or resources needed to support their children. A particular focus of these partnerships will be to assist low-income, non-custodial parents of children receiving Temporary Assistance for Needy Families to achieve a degree of self-sufficiency that will enable them to provide support that will free their families of the need for such assistance.

Accordingly, a rating factor and a review criterion have been included in this Program Announcement that will award two points to applicants who have entered into partnership agreements with their local CSE agency to provide for referrals to their project in accordance with provisions of the OCS-OCSE MOU. [See Part IV, Sub-Element III(c).]

H. Technical Assistance to Employers

Technical assistance should be specifically addressed to the needs of the private employer in creating new jobs to be filled by eligible individuals and/or to the individuals themselves in areas such as job-readiness, literacy and other basic skills training, job preparation, self-esteem building, etc. Financial assistance may be provided to the private employer as well as to the individual.

If the technical and/or financial assistance is to be provided to pre-identified businesses that will be expanded or franchised, written commitments from the businesses to create the planned jobs must be included with the application.

I. Applicant Experience and Cost-per-Job

In the review process, favorable consideration will be given to applicants with a demonstrated record of achievement in promoting job and enterprise opportunities for low-income people.

Favorable consideration also will be given to those applicants who show the lowest cost-per-job created for low-income individuals. For this program, OCS views $15,000 in OCS funds as the maximum amount for the creation of a job and, unless there are extenuating circumstances, will not fund projects where the cost-per-job in OCS funds exceeds this amount. Only those jobs created and filled by low-income people will be counted in the cost-per-job formula. [See Part IV, Sub-Element III (d).]

J. Loan Funds

The creation of a revolving loan fund with funds received under this program is an allowable activity. However, OCS encourages the use of funds from other sources for this purpose. Loans made to eligible beneficiaries for business development activities must be at or below market rate. (Note: Interest accrued on revolving loan funds may be used to continue or expand the activities of the approved project.)

K. Business Plan

Where applicant is proposing the development and startup of a new business or the expansion of an existing business, a business plan that follows the outline in Attachment L to this announcement must be submitted as an appendix to the proposal.

L. Dissemination of Project Results

Applications should include a plan for disseminating the results of the project after expiration of the grant period. Applicants may budget up to $2,000 for dissemination purposes. Final project reports should include a description of dissemination activities with copies of any materials produced.

M. General Projects 1.0 and Community Development Corporations Set-Aside 2.0

All grant awards are subject to the availability of appropriated funds. The Office of Community Services expects to award approximately $5 million in FY 2001 for new grants in two priority areas under this announcement: approximately $4 million for General Projects 1.0, and up to $1 million for projects to be conducted by community development corporations (CDC Set-Aside 2.0). (For definition of community development corporation, see Part I, Section B.)

The same purposes, requirements and prohibitions are applicable to proposals submitted under both General Projects 1.0 and Community Development Corporations Set-Aside 2.0. Applications for the set-aside funds that are not funded due to the limited amount of funds available will also be considered competitively within the larger pool of eligible applicants.

N. Third Party Agreements

Any applicant submitting a proposal for funding who proposes to use some or all of the requested OCS funds to enter into a third party agreement in order to make an equity investment (such as the purchase of stock) or a loan to an organization, or business entity (including a wholly-owned subsidiary), must include in the application, along with the business plan, a copy of the signed third party agreement for approval by OCS.

• A third party agreement covering an equity investment must contain, at a minimum, the following:

1. The type of equity transaction (e.g. stock purchase);

2. Purpose(s) for which the equity investment is being made;

3. Cost per share;

4. Number of shares being purchased;

5. Percentage of ownership of the business; and

6. Number of seats on the board, if applicable.

• A third party agreement covering a loan transaction must contain, at a minimum, the following information:

1. Purpose(s) for which the loan is being made;

2. Rates of interest and other fees;

3. Terms of loan;

4. Repayment schedules;

5. Collateral security; and

6. Default and collection procedures.

• All third party agreements must include written commitments as follows:

From the third party (as appropriate):

1. A minimum of 75% of the jobs to be created as a result of the injection of grant funds will be filled by low-income individuals;

2. The grantee will have the right to screen applicants for jobs to be filled by low-income individuals and to verify their eligibility;

3. If the grantee's equity investment equals 25% or more of the business's assets, the grantee will have representation on the board of directors;

4. Reports will be made to the grantee regarding the use of grant funds no less than on a quarterly basis;

5. A procedure will be developed to assure that there are no duplicate counts of jobs created; and

6. Detailed information will be provided on how the grant funds will be used by the third party by submitting a Source and Use of Funds Statement. In addition, the agreement must provide details on how the grantee will provide support and technical assistance to the third party in areas of recruitment and retention of low-income individuals.

From the grantee:

Detailed information on how the grantee will provide support and technical assistance to the third party in areas of recruitment and retention of low-income individuals.

• All third party agreements should be accompanied by:

1. A signed statement from a Certified or Licensed Public Accountant as to the sufficiency of the third party's financial management system in accordance with 45 CFR 74, to protect adequately any federal funds awarded under the application;

2. Financial statements for the third party organization for the prior three years. (If not available because the organization is a newly-formed entity, include a statement to this effect.); and

3. The third party agreement will specify how the grantee will provide oversight of the third party for the life of the agreement. Also, the agreement will specify that the third party will maintain documentation related to the expenditure of grant funds loaned to or invested in the third party and grant objectives as specified in the agreement and will provide the grantee and HHS access to that documentation.

If a signed third party agreement is not available when the application is submitted, the applicant must submit as part of the narrative as much of the above-mentioned information as possible in order to enable reviewers to evaluate the proposal. It should be noted that that portion of a grant which will be used to fund a third party agreement will not be released until the agreement has been approved by OCS.

Part IV—Application Elements and Review Criteria

Applications that pass the pre-rating review will be assessed and scored by reviewers. Each reviewer will give a numerical score for each application reviewed. These numerical scores will be supported by explanatory statements on a formal rating form describing major strengths and weaknesses under each applicable criterion published in the announcement.

The in-depth assessment and review process will use the following criteria coupled with the specific requirements described in Part III. Scoring will be based on a total of 100 points.

The ultimate goals of the project to be funded under the JOLI Program are: (1) To achieve, through project activities and interventions, the creation of employment opportunities for TANF recipients and other low-income individuals which can lead to economic self-sufficiency of members of the communities served; (2) to evaluate the effectiveness of these interventions and of the project design through which they were implemented; and (3) thus to make possible the replication of successful programs.

In order to simplify the application preparation and review process, OCS seeks proposals that are cogent and brief. Applications with project narratives (excluding appendices) of more than 30 letter-sized pages of 12 characters per inch (cpi) type or equivalent on a single side will not be reviewed for funding.

Applicants should prepare and assemble their project description using the following outline of required project elements. They should, furthermore, build their project concept, plans, and application description upon the guidelines set forth for each of the project elements.

For each of the project elements or sub-elements below, there is at the end of the discussion a suggested number of pages to be devoted to the particular element or sub-element. These are suggestions only; but the applicant must remember that the overall Project Narrative cannot be longer than 30 pages.

The competitive review of proposals will be based on the degree to which applicants incorporate each of the elements and sub-elements below into their proposals, so as to:

(1) Describe convincingly a project that will develop new employment or business opportunities for TANF recipients and other low income individuals that can lead to a transition from dependency to economic self-sufficiency;

(2) Propose a realistic budget and timeframe for the project that will support the successful implementation of the work plan to achieve the project's goals in a timely and cost effective manner; and

(3) Provide for the testing and evaluation of the project design, implementation, and outcomes so as to make possible replication of a successful program.

Element I—Organizational Experience in Program Area and Staff Skills, Resources and Responsibilities

Sub-Element I(a)—Agency's Experience and Commitment in Program Area (Weight of 0-10 Points in Proposal Review)

Applicants should cite their organization's capability and relevant experience in developing and operating programs which deal with poverty problems similar to those to be addressed by the proposed project. They should also cite the organization's experience in collaborative programming and operations which involve evaluations and data collection. Applicants should identify agency executive leadership in this section and briefly describe their involvement in the proposed project and provide assurance of their commitment to its successful implementation.

The application should include documentation that briefly summarizes two similar projects undertaken by the applicant agency and the extent to which the stated and achieved performance targets, including permanent benefits to low-income populations, have been achieved. The application should note and justify the priority that this project will have within the agency, including the facilities and resources that it has available to carry it out.

It is suggested that applicants use no more than 2 pages for this sub-element.

Note: The maximum number of points will be given only to those organizations with a demonstrated record of achievement in promoting job creation and enterprise opportunities for low-income people.

Sub-Element I(b)—Staff Skills, Resources and Responsibilities (Weight of 0-10 Points in Proposal Review)

The application must identify the two or three individuals who will have the key responsibility for managing the project, coordinating services and activities for participants and partners, and for achieving performance targets. The focus should be on the qualifications, experience, capacity and commitment to the program of the executive officials of the organization and the key staff persons who will administer and implement the project. The person identified as project director should have supervisory experience, experience in finance and business, and experience with the target population. Because this is a new project within an already-established agency, OCS expects that the key staff person(s) would be identified, if not hired.

The application must also include a resume of the third party evaluator, if identified or hired; or the minimum qualifications and position description for the third party evaluator, who must be a person with recognized evaluation skills who is organizationally distinct from, and not under the control of, the applicant. (See Element IV: Project Evaluation, below, for fuller discussion of evaluator qualifications.)

Actual resumes of key staff and position descriptions should be included in an appendix to the proposal.

It is suggested that applicants use no more than 3 pages for this sub-element.

Element II: Project Theory, Design, and Plan

OCS seeks to learn from the application why and how the project as proposed is expected to lead to the creation of new employment opportunities for low-income individuals, which can lead to significant improvements in individual and family self-sufficiency.

Applicants are urged to design and present their project in terms of a conceptual cause-effect framework. In the following paragraphs, a framework is described that suggests a way to present a project so as to show the logic of the cause-effect relations between project activities and project results. Applicants are not required to use the exact language described; but it is important to present the project in a way that makes clear the cause-effect relationship between what the project plans to do and the results it expects to achieve.

Sub-Element II(a)—Description of Target Population, Analysis of Need, and Project Assumptions (Weight of 0-10 Points in Application Review)

The project design or plan should begin with identifying the underlying assumptions about the program. These are the beliefs on which the proposed program is built. These assumptions include: the needs of the population to be served; the current services available to that population, and where and how they fail to meet their needs; why the proposed services or interventions are appropriate and will meet those needs; and the impact the proposed interventions will have on the project participants.

In other words, the underlying assumptions of the program are the applicant's analysis of the needs and problems to be addressed by the project, and the applicant's theory of how its proposed interventions will address those needs and problems to achieve the desired result. Thus a strong application is based upon a clear description of the needs and problems to be addressed and a persuasive understanding of the causes of those problems.

In this sub-element of the proposal, the applicant must precisely identify the target population to be served. The geographic area to be impacted should then be described briefly, citing the percentage of residents who are low-income individuals and TANF recipients, as well as the unemployment rate and other data that are relevant to the project design.

The application should include an analysis of the identified personal barriers to employment, job retention and greater self-sufficiency faced by the population to be targeted by the project. (These might include such problems as illiteracy, substance abuse, family violence, lack of skills training, health or medical problems, need for childcare, lack of suitable clothing or equipment, or poor self-image.)

The application should also include an analysis of the identified community systemic barriers which the project will seek to overcome. These might include lack of jobs (high unemployment rate); lack of public transportation; lack of markets; unavailability of financing, insurance or bonding; inadequate social services (employment service, childcare, job training); high incidence of crime; inadequate health care; or environmental hazards (such as toxic dumpsites or leaking underground tanks).

Applicants should be sure not to overlook the personal and family services and support that might be needed by project participants after they are on the job which will enhance job retention and advancement.

If the jobs to be created by the proposed project are themselves designed to fill one or more of the needs, or remove one or more of the barriers so identified, this fact should be highlighted in the discussion, e.g., jobs in child care, health care, or transportation.

It is suggested that applicants use no more than 4 pages for this sub-element.

Sub-Element II(b)—Project Strategy and Design: Interventions, Outcomes, and Goals (Weight of 0-10 Points in Proposal Review)

The work plan must describe the proposed project activities, or interventions, and explain how they are expected to result in outcomes which will meet the needs of the program participants and assist them to overcome the identified personal and systemic barriers to employment, job retention, and self-sufficiency. In other words, what will the project staff do with the resources provided to the project and how will what they do (interventions) assist in creating and sustaining employment and business opportunities for program participants in the face of the needs and problems that have been identified.

The underlying assumptions concerning client needs and the theory of how they can be effectively addressed, which are discussed above, lead in the project design to the conduct of a variety of project activities or interventions, each of which is assumed to result in immediate changes, or outcomes.

The immediate changes lead to intermediate outcomes; and the intermediate outcomes lead to the attainment of the final project goals.

The applicant should describe the major activities, or interventions, which are to be carried out to address the needs and problems identified in Sub-Element II(a); and should discuss the immediate changes, or outcomes, which are expected to result. These are the results expected from each service or intervention immediately after it is provided. For example, a job readiness training program might be expected to result in clients having increased knowledge of how to apply for a job, improved grooming for job interviews, and improved job interview skills; or business training and training in bookkeeping and accounting might be expected to result in project participants making an informed decision about whether they are suited for entrepreneurship.

At the next level are the intermediate outcomes, which result from these immediate changes. Often an intermediate project outcome is the result of several immediate changes resulting from a number of related interventions such as training and counseling. Intermediate outcomes should be expressed in measurable changes in knowledge, attitudes, behavior, or status/condition. In the above examples, the immediate changes achieved by the job readiness program, coupled with technical assistance to an employer in the expansion of a business, could be expected to lead to intermediate outcomes of creation of new job openings and in the participant applying for a job with the company. The acquisition of business skills, coupled with the establishment of a loan fund, could be expected to result in the actual decision by the participant to go into a particular business venture or seek the alternative track of pursuing job readiness and training.

Finally, the application should describe how the achievement of these intermediate outcomes will be expected to lead to the attainment of the project goals: employment in newly created jobs, new careers in non-traditional jobs, successful business ventures, or employment in an expanded business, depending on the project design. Applicants must remember that if the major focus of the project is to be the development and startup of a new business or the expansion of an existing business, then a business plan which follows the outline in Attachment L to this announcement must be submitted as an appendix to the proposal. (See Part III, K.)

Applicants do not have to use the exact terminology described above, but it is important to describe the project in a way that makes clear the expected cause-and-effect relationship between what the project plans to do: the activities or interventions, the changes that are expected to result, and how those changes will lead to attainment of the project goals of new employment opportunities and greater self-sufficiency. The competitive review of this sub-element will be based on the extent to which the application makes a convincing case that the activities to be undertaken will lead to the projected results.

It is suggested that applicants use no more than 4 pages for this sub-element.

Sub-Element II(c)—Work Plan (Weight of 0-10 Points in Proposal Review)

Once the project strategy and design framework is established, the applicant should present the highlights of a work plan for the project. The plan should explicitly tie into the project design framework and should be feasible, i.e., capable of being accomplished with the resources, staff, and partners available. The plan should briefly describe the key project tasks and show the timelines and major milestones for their implementation. Critical issues or potential problems that might affect the achievement of project objectives should be explicitly addressed, with an explanation of how they would be overcome, and how the objectives will be achieved notwithstanding any such problems. The plan should be presented in such a way that it can be correlated with the budget narrative included earlier in the application.

Applicants may be able to use a simple Gantt or time line chart to convey the work plan in minimal space.

The application contains a full and accurate description of the proposed use of the requested financial assistance.

If the applicant proposes to make an equity investment or a loan to an individual, organization, or business entity (including a wholly-owned subsidiary), the application must include: A signed third party agreement; a signed statement by a Certified or Licensed Public Accountant as to the sufficiency of the third party's financial management system; and financial statements for the third party's prior three years of operation. (If newly formed and unable to provide the information regarding the prior three years of operation, a statement to that effect should be included.) If the applicant states that an agreement is not currently in place, the application must contain in the narrative as much information required for third party agreements as is available.

Also, if the project proposes the development of a new or expanded business, service, physical or commercial activity, the application must address applicable elements of a business plan. Guidelines for a business plan are included in Attachment L.

Special attention should be given to assure that the financial plan element, which indicates the project's potential and timetable for financial self-sufficiency, is included. It must include for the applicant and the third party, if appropriate, the following exhibits for the first three years (on a quarterly basis) of the business' operations: Profit and Loss Forecasts, Cash Flow Projections, and Proforma Balance Sheets. Based on these documents, the application must also contain an analysis of the financial feasibility of the project. Also, a Source and Use of Funds statement for all project funding must be included.

It is suggested that applicants use no more than 3 pages for this sub-element.

Element III: Significant and Beneficial Impact

Sub-Element III (a)—Quality of Jobs/Business Opportunities (Weight of 0-10 Points in Proposal Review)

The proposed project is expected to produce permanent and measurable results that will reduce the incidence of poverty in the community and lead welfare recipients from welfare dependency toward economic self-sufficiency. Results are expected to be quantifiable in terms of the creation of permanent, full-time jobs; the development of business opportunities; the expansion of existing businesses; or the creation of non-traditional employment opportunities. In developing business opportunities and self employment for TANF recipients and low-income individuals, the applicant proposes, at a minimum, to provide basic business planning and management concepts, and assistance in preparing a business plan and loan package.

The application should document that:

The business opportunities to be developed for eligible participants will contribute significantly to their progress toward self-sufficiency; and/or jobs to be created for eligible participants will contribute significantly to their progress toward self-sufficiency. For example, they should provide salaries that exceed the minimum wage, plus benefits such as health insurance, child care and career development opportunities.

It is suggested that applicants use no more than 2 pages for this sub-element.

Sub-Element III(b)—Community Empowerment Consideration (Weight of 0-3 Points in Proposal Review)

Special consideration will be given to applicants that are located in areas that are characterized by conditions of extreme poverty and other indicators of socio-economic distress such as a poverty rate of at least 20%, designation as an Empowerment Zone or Enterprise Community, high levels of violence, gang activity or drug use; who document that in response to these conditions they have been involved in the preparation and planned implementation of a comprehensive community-based strategic plan to achieve both economic and human development in an integrated manner; and how the proposed project will support the goals of that plan.

It is suggested that applicants use no more than 2 pages for this sub-element.

Sub-Element III(c)—Support for Noncustodial Parents (Weight of 0-2 Points in Proposal Review)

Applicants that have entered into partnership agreements with local Child Support Enforcement Agencies to develop and implement innovative strategies to increase the capability of low-income parents and families to fulfill their parental responsibilities, and specifically, to this end, to provide for referrals to the funded projects of identified income eligible families and noncustodial parents economically unable to provide child support, will also receive special consideration.

To receive the full credit of two points, applicants should include as an appendix to the application, a signed letter of agreement with the local CSE Agency for referral of eligible non-custodial parents to the proposed project.

It is suggested that applicants use no more than 1 page for this sub-element.

Sub-Element III(d)—Cost-per-Job (Weight of 0-5 Points in Proposal Review)

The applicant should document that during the project period the proposed project will create new, permanent jobs through business opportunities or non-traditional employment opportunities for low-income residents at a cost-per-job below $15,000 in OCS funds. The cost per job should be calculated by dividing the total amount of grant funds requested (e.g., $420,000) by the number of jobs to be created (e.g., 60) which would equal the cost-per-job ($7,000). If any other calculations are used, include the methodology and rationale in this section. In making calculations of cost-per-job, only jobs filled by low-income project participants may be counted. (See Part III, Section I.)

Note: Except in those instances where independent reviewers identify extenuating circumstances related to business development activities, or high wage levels and living costs such as in Hawaii or Alaska, the maximum number of points will be given only to those applicants proposing cost-per-job created estimates of $5,000 or less of OCS requested funds. Higher cost-per-job estimates will receive correspondingly fewer points.

It is suggested that applicants use no more than 1 page for this sub-element.

Element IV: Project Evaluation (Weight of 0-15 Points in the Proposal Review)

Sound evaluations are essential to the JOLI Program. OCS requires applicants to include in their applications a well thought through outline of an evaluation plan for their project. The outline should explain how the applicant proposes to answer the key questions about how effectively the project is being/was implemented; whether the project activities, or interventions, achieved the expected immediate outcomes, and why or why not (the process evaluation); and whether and to what extent the project achieved its stated goals, and why or why not (the outcome evaluation). Together, the process and outcome evaluations should answer the question: “What did this program accomplish and why did it work/not work?”

Applicants are not being asked to submit a complete and final evaluation plan as part of their proposal, but they must include:

1. A well thought through outline of an evaluation plan that identifies the principal cause-and-effect relationships to be tested, and that demonstrates the applicant's understanding of the role and purpose of both process and outcome evaluations. (See previous paragraph.)

2. The identity and qualifications of the proposed third party evaluator, or if not selected, the qualifications which will be sought in choosing an evaluator, which must include successful experience in evaluating social service delivery programs, and the planning and/or evaluation of programs designed to foster self-sufficiency in low income populations; and

3. A commitment to the selection of a third party evaluator approved by OCS and completion of a final evaluation design and plan, in collaboration with the approved evaluator and the OCS evaluation technical assistance contractor during the six-month startup period of the project, if funded.

Applicants should ensure, above all, that the evaluation outline presented is consistent with their project design. A clear project framework of the type recommended earlier identifies the key project assumptions about the target populations and their needs, as well as the hypotheses, or expected cause-effect relationships to be tested in the project; and the proposed project activities, or interventions, that will address those needs in ways that will lead to the achievement of the project goals of self-sufficiency. It also identifies in advance the most important process and outcome measures that will be used to identify performance success and expected changes in individual participants, the grantee organization, and the community.

Finally, as noted above, the outline should provide for prompt reporting, concurrently with the semi-annual program progress reports, of lessons learned during the course of the project, so that they may be shared without waiting for the final evaluation report.

For all these reasons, it is important that each successful applicant have a third party evaluator selected and performing at the very latest by the time the work program of the project is begun, and if possible before that time so that he or she can participate in the final design of the program and assure that data necessary for the evaluation will be collected and available. Plans for selecting an evaluator should be included in the application narrative. A third party evaluator must have knowledge of and experience in conducting process and outcome evaluations in the job creation field, and have a thorough understanding of the range and complexity of the problems faced by the target population.

The competitive procurement regulations (45 CFR Part 74, sections 74.40-74.48, esp. 74.43) apply to service contracts such as those for evaluators.

It is suggested that applicants use no more than 3 pages for this element, plus the resume or position description for the evaluator, which should be in an appendix.

Element V: Public/Private Partnerships (Weight of 0-10 Points in the Proposal Review)

The proposal should briefly describe any public/private partnerships, which will contribute to the implementation of the project. Where partners' contributions to the project are a vital part of the project design and work program, the narrative should describe undertakings of the partners. A partnership agreement specifying the roles of the partners and making a clear commitment to the fulfilling of the partnership role must be included in an appendix to the proposal. The firm commitment of mobilized resources must be documented and submitted with the application in order to be given credit under this element. The application should meet the following criteria:

• Where other resources are mobilized, the application must provide documentation that public and/or private sources of cash and/or third party-in-kind contributions will be available in the form of letters of commitment from the organization(s)/individual(s) from which resources will be received. Applications that can document dollar for dollar contributions equal to the OCS funds and demonstrate that the partnership agreement clearly relates to the objectives of the proposed project will receive the maximum number of points for this criterion. Lesser contributions will be given consideration based upon the value documented.

Note: Even though there is no matching requirement for the JOLI Program, grantees will be held accountable for any match, cash or in-kind contribution proposed or pledged as part of an approved application. (See Part II, D—Mobilization of Resources.)

• Partners involved in the proposed project should be responsible for substantive project activities and services. Applicants should note that partnership relationships are not created via service delivery contracts.

It is suggested that applicants use no more than 4 pages for this element.

Element VI: Budget Appropriateness and Reasonableness (Weight of 0-5 Points in Proposal Review)

Applicants are required to submit Federal budget forms with their proposals to provide basic applicant and project information (SF 424) and information about how Federal and other project funds will be used (424A). (See Part VI.) Immediately following the completed Federal budget forms, (Attachments B and C), applicants must submit a budget narrative, or explanatory budget information which includes a detailed budget breakdown for each of the budget categories in the SF-424A. This budget narrative is not considered a part of the project narrative, and does not count as part of the thirty page limitation but rather should be included in the application following the budget forms.

The duration of the proposed project and the funds requested in the budget must be commensurate with the level of effort necessary to accomplish the goals and objectives of the project. The budget narrative should briefly explain how grant funds will be expended and show the appropriateness of the Federal funds and any mobilized resources to accomplish project purposes within the proposed timeframe. The estimated cost to the government of the project should be reasonable in relation to the project's duration and to the anticipated results, and include reasonable administrative costs if an indirect cost rate has not been negotiated with a cognizant Federal agency.

Applicants are encouraged to use job titles and not specific names in developing the budget. However, the specific salary rates or amounts for staff positions identified must be included in the application budget.

Resources in addition to OCS grant funds are encouraged both to augment project resources and strengthen the basis for continuing partnerships to benefit the target community. The amounts of such resources, their appropriateness to the project design, and the likelihood that they will continue beyond the project timeframe will be taken into account in judging the application. As noted in Element V, above, even though there is no matching requirement for the JOLI Program, grantees will be held accountable for any match, cash or in-kind contribution proposed or pledged as part of an approved application.

Applicants should include funds in the project budget for travel by project directors and chief evaluators to attend two national evaluation workshops in Washington, D.C. (See Part VIII, B, Attendance at Evaluation Workshops.)

The score for this element will be based on the budget form (SF-424A) and the associated detailed budget narrative.

Part V—Application Procedures

A. Availability of Forms

Attachments B-F, H, J, and M contain all of the standard forms necessary for the application for awards under this OCS program. These attachments and Parts V and VI of this announcement contain all the instructions required for submittal of applications.

Additional copies may be obtained by writing or telephoning the office listed under the section entitled FOR FURTHER INFORMATION CONTACT: at the beginning of this announcement. In addition, this announcement is accessible on the Internet through the OCS web site for reading or downloading at the following address: www.acf.dhhs.gov/programs/ocs/kits1.htm.

The applicant must be aware that in signing and submitting the application for this award, it is certifying that it will comply with the Federal requirements covering the drug-free workplace, debarment regulations and the Certification Regarding Environmental Tobacco Smoke, set forth in Attachments E, F and J.

Part IV contains instructions for the substance and development of the project narrative. Part VII, Section A, describes the contents and format of the application as a whole.

B. Application Submission

Mailing Address: JOLI Applications should be mailed to the U.S. Department of Health and Human Services, Administration for Children and Families, Office of Grants Management/OCSE, 4th Floor West, Aerospace Center, 370 L'Enfant Promenade, SW., Washington, DC 20447; Attention: Application for JOLI Program.

Number of Copies Required: One signed original application and four copies should be submitted at the time of initial submission. (OMB-0970-0062, expiration date 10/31/2001)

Submission Instructions: Mailed applications shall be considered as meeting an announced deadline if they are either received on or before the deadline date or sent on or before the deadline date and received by ACF in time for the independent review.

Applications that are mailed must bear a legibly dated U.S. Postal Service postmark or a legibly dated, machine produced postmark of a commercial mail service affixed to the envelope/package containing the application(s). To be acceptable as proof of timely mailing, a postmark from a commercial mail service must include the logo/emblem of the commercial mail service company and must reflect the date the package was received by the commercial mail service company from the applicant. Private metered postmarks shall not be acceptable as proof of timely mailing. (Applicants are cautioned that express/overnight mail services do not always deliver as agreed.)

Applications that are hand carried by applicants, applicant couriers, or by other representatives of the applicant shall be considered as meeting an announced deadline if they are received on or before the closing date, between the hours of 8 a.m. and 4:30 p.m., EST, and at the U.S. Department of Health and Human Services, Administration for Children and Families, Office of Grants Management/OCSE, ACF Mailroom, 2nd Floor Loading Dock, Aerospace Center, 901 D Street, S.W., Washington, D.C. 20024, between Monday and Friday (excluding Federal holidays). The address must appear on the envelope/package containing the application with the note: Attention: Application for JOLI Program. (Applicants are again cautioned that express/overnight mail services do not always deliver as agreed.)

ACF cannot accommodate transmission of applications by fax or through other electronic media. Therefore, applications transmitted to ACF electronically will not be accepted regardless of date or time of submission and time of receipt.

Late Applications: Applications that do not meet the criteria above are considered late applications. ACF shall notify each late applicant that its application will not be considered in the current competition.

Extension of Deadlines: ACF may extend application deadlines when circumstances such as acts of God (flood, hurricanes, etc.) occur, or when there are widespread disruptions of the mail service. Determinations to extend or waive deadline requirements rest with ACF's Chief Grants Management Officer.

C. Paperwork Reduction Act of 1995

Under the Paperwork Reduction Act of 1995, Public Law 104-13, the Department is required to submit to OMB for review and approval any reporting and record keeping requirements in regulations, including Program Announcements. An agency may not conduct or sponsor, and a person is not required to respond to, a collection of information unless it displays a currently valid OMB control number. This Program Announcement does not contain information collection requirements beyond those approved for ACF grant announcements/applications under OMB Control Number OMB-0970-0062, expiration date 10/31/2001.

D. Intergovernmental Review

This program is covered under Executive Order 12372, “Intergovernmental Review of Federal Programs,” and 45 CFR Part 100, “Intergovernmental Review of Department of Health and Human Services Program and Activities.” Under the Order, States may design their own processes for reviewing and commenting on proposed Federal assistance under covered programs.

Note: State/Territory Participation in the Intergovernmental Review Process Does Not Signify Applicant Eligibility for Financial Assistance Under a Program. A Potential Applicant Must Meet the Eligibility Requirements of the Program for Which It Is Applying Prior to Submitting an Application to Its Single Point of Contact (SPOC), if Applicable, or to ACF.

As of October 5, 1999, the following jurisdictions have elected not to participate in the Executive Order process:

Alabama, Alaska, Colorado, Connecticut, Hawaii, Idaho, Kansas, Louisiana, Massachusetts, Minnesota, Montana, Nebraska, New Jersey, Ohio, Oklahoma, Oregon, Pennsylvania, South Dakota, Tennessee, Vermont, Virginia, Washington, American Samoa, and Palau.

Applicants from these 24 jurisdictions need take no action regarding E.O. 12372. Applicants for projects to be administered by Federally recognized Indian tribes are also exempt from the requirements of E.O. 12372. Otherwise, applicants should contact their SPOC as soon as possible to alert them of the prospective applications and receive any necessary instructions. Applicants must submit any required material to the SPOC as soon as possible so that the program office can obtain and review SPOC comments as part of the award process. It is imperative that the applicant submit all required materials, if any, to the SPOC and indicate the date of this submittal (or the date of contact if no submittal is required) on the Standard Form 424, item 16a. Under 45 CFR 100.8(a)(2), a SPOC has sixty (60) days from the application deadline to comment on proposed new or competing continuation awards.

SPOCs are encouraged to eliminate the submission of routine endorsements as official recommendations. Additionally, SPOCs are requested to differentiate clearly between mere advisory comments and those official State process recommendations which may trigger the “accommodate or explain” rule.

When comments are submitted directly to ACF, they should be addressed to: Department of Health and Human Services, Administration for Children and Families, Office of Grants Management/OCSE, 4th Floor West, Aerospace Center, 370 L'Enfant Promenade, SW., Washington, DC 20447.

A list of the Single Point of Contact for each State and Territory is included as Attachment G to this announcement.

E. Application Consideration

Applications that meet the screening requirements below will be reviewed competitively. Such applications will be referred to reviewers for numerical scoring and explanatory comments based solely on responsiveness to the guidelines and evaluation criteria published in this announcement.

Applications will be reviewed by persons outside of the OCS unit. The results of these reviews will assist the Director and OCS program staff in considering competing applications. Reviewers' scores will weigh heavily in funding decisions, but will not be the only factors considered.

Applications generally will be considered in order of the average scores assigned by reviewers. However, highly ranked applications are not guaranteed funding since other factors are taken into consideration, including, but not limited to, the timely and proper completion of projects funded with OCS funds granted in the last five (5) years; comments of reviewers and government officials; staff evaluation and input; the amount and duration of the grant requested and the proposed project's consistency and harmony with OCS goals and policy; geographic distribution of applications; previous program performance of applicants; the limitations on project continuation or refunding (see Part II, Section H); the number of previous JOLI grants made to applicants; compliance with grant terms under previous HHS grants, including the actual dedication to program of mobilized resources as set forth in project applications; audit reports; investigative reports; and applicant's progress in resolving any final audit disallowances on previous OCS or other Federal agency grants.

OCS reserves the right to discuss applications with other Federal or non-Federal funding sources to verify the applicant's performance record and the documents submitted.

F. Criteria for Screening Applications

All applications that meet the published deadline requirements as provided in this Program Announcement will be screened for completeness and conformity with the requirements. Only complete applications that meet the requirements listed below will be reviewed and evaluated competitively. Other applications will be returned to the applicant with a notation that they were unacceptable and will not be reviewed.

The following requirements must be met by all applicants:

1. The application must contain a Standard Form 424 “Application for Federal Assistance” (SF-424), a budget (SF-424A), and signed “Assurances” (SF-424B) completed according to instructions published in Part VI and Attachments C and D of this Program Announcement.

2. All JOLI applications must include a signed cooperative partnership agreement with the designated State agency responsible for administering the TANF Program, or a letter of commitment to such an agreement within six months of a grant award, contingent only on receipt of OCS funds. This cooperative partnership agreement must fully describe the role and/or responsibilities of each partner for specific activities and/or services to be provided which must clearly relate to the objectives of the proposed project.

3. A project narrative must also accompany the standard forms. OCS requires that the narrative portion of the application be limited to 30 pages, typewritten on one side of the paper only with one-inch margins and type face no smaller than 12 characters per inch (cpi) or equivalent. The table of contents, budget narrative charts, appendices, exhibits, resumes, position descriptions, letters of support, cooperative agreements, letters of collaboration or substantive commitments to the project by organizations other than designated TANF agency, and business plans (where required) are not counted against this page limit. It Is Strongly Recommended That Applicants Follow the Format and Content for the Narrative Set Out In Part IV.

4. The SF-424 and the SF-424B must be signed by an official of the organization applying for the grant who has authority to obligate the organization legally. Applicants must also be aware that the applicant's legal name as required on the SF-424 (item 5) must match that listed as corresponding to the Employer Identification Number (item 6).

5. Application must contain documentation of the applicant's tax exempt status as required under Part II, section A.

6. The application must contain a written third party agreement, or a discussion of a proposed agreement, signed by the applicant and the third party that includes all of the elements required in Part III, section N, if the applicant proposes to make an equity investment or a loan.

Part VI—Instructions for Completing the SF-424

(Approved by the Office of Management and Budget under Control Number 0970-0062, expiration date October 31, 2001.)

The standard forms attached to this announcement shall be used to apply for funds under this program announcement.

It is suggested that you reproduce single-sided copies of the SF-424 and SF-424A and type your application on the copies. Please prepare your application in accordance with instructions provided on the forms (Attachments B and C) as modified by the OCS specific instructions set forth below:

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification, which describes how the categorical costs are derived. Discuss the necessity, reasonableness, and allocability of the proposed costs.

A. SF-424—Application for Federal Assistance (Attachment B)

Top of Page. Please enter the single priority area number under which the application is being submitted (General Projects 1.0 or CDC Set-Aside 2.0). An application should be submitted under only one priority area.

Where the applicant is a previous Department of Health and Human Services grantee, enter the Central Registry System Employee Identification Number (CRS/EIN) and the Payment Identifying Number, if one has been assigned, in the Block entitled Federal Identifier located at the top right hand corner of the form.

Item 1. For the purposes of this announcement, all projects are considered Applications; there are no Preapplications.

Item 7. Enter N in the box and specify nonprofit corporation on the line marked Other.

Item 9. Name of Federal Agency—Enter HHS-ACF/OCS.

Item 10. The Catalog of Federal Domestic Assistance number for OCS programs covered under this announcement is 93.593. The title is “Job Opportunities for Low-Income Individuals Program”.

Item 11. In addition to a brief descriptive title of the project, indicate the priority area for which funds are being requested. Use the following letter designations:

JO—General Project

JS—Community Development Corporation Set-Aside

Item 13. ”Proposed Project”—The ending date should be based on the requested project period, not to exceed three years (36 months).

Item 15a. This amount should be no greater than $500,000.

Item 15b-e. These items should reflect both cash and third party in-kind contributions for the three year budget period requested.

B. SF-424A—Budget Information-Non-Construction Programs (Attachment C)

In completing these sections, the Federal funds budget entries will relate to the requested OCS funds only, and Non-Federal will include mobilized funds from all other sources—applicant, state, local, and other. Federal funds other than requested OCS funding should be included as “Non-Federal” entries.

Section A, B, and C of SF-424A should reflect budget estimates for each year of the budget period for which funding is being requested.

Section A—Budget Summary

You need only fill in lines 1 and 5 (with the same amounts).

Column (a): Enter Job Opportunities for Low-Income Individuals Program.

Column (b): Catalog of Federal Domestic Assistance number is 93.593.

Columns (c) and (d): Not relevant to this program.

Column (e)-(g): Enter the appropriate amounts.

(Column (e) should not be more than $500,000.)

Section B—Budget Categories

(Note that the following information supersedes the instructions provided with the Form SF-424A in Attachment C.)

For each of the relevant Object Class Categories:

Column 1: Enter the OCS grant funds for the first year;

Column 2: Enter the OCS grant funds for the second year (where appropriate);

Column 3: Enter the OCS grant funds for the third year (where appropriate);

Column 4: Leave blank.

Column 5: Enter the total Federal OCS grant funds for the total budget period by Object Class Categories, showing a total budget of not more than $500,000.

Note: With regard to Object Class Categories: Only out-of-town travel should be entered under category c. Travel. Local travel costs should be entered under category h. Other. Equipment costing less than $5000 should be included in category e. Supplies.

Section C—Non-Federal Resources

This section is to record the amounts of non-Federal resources that will be used to support the project. For the purposes of this application, non-Federal resources means other than the OCS funds for which the applicant is applying. Therefore, mobilized funds from other Federal programs, such as the Job Training Partnership Act program, should be entered on these lines. Provide a brief listing of these non-Federal resources on a separate sheet and describe whether it is a grantee-incurred cost or a third party cash or in-kind contribution. The firm commitment of these resources must be documented and submitted with the application in order to be given credit in the review process under the Public/Private Partnerships program element.

Except in unusual situations, this documentation must be in the form of letters of commitment from the organization(s)/individual(s) from which resources will be received.

Note: Even though there is no matching requirement for the JOLI Program, grantees will be held accountable for any match, cash or in-kind contribution proposed or pledged as part of an approved application. (See Part IV, Element V.)

This section should be completed in accordance with the instructions provided.

Sections D, E, and F may be left blank.

A supporting budget narrative must be submitted providing details of expenditures under each budget category, and justification of dollar amounts which relate the proposed expenditures to the work program and goals of the project. (See Part IV, Element VI.)

C. SF-424B—Assurances-Non-Construction (Attachment D)

All applicants must fill out, sign, date and return the “Assurances” with the application.

Part VII—Contents of Application and Receipt Process

A. Contents of Application

Each JOLI application must include all of the following, in the order listed below:

1. Table of Contents.

2. An Abstract of the Proposed Project—very brief, not to exceed 250 words, that would be suitable for use in an announcement that the application has been selected for a grant award and which identifies the type of project(s), the target population, and the major elements of the work plan.

3. Completed Standard Form 424 that has been signed by an Official of the organization applying for the grant who has authority to obligate the organization legally.

(Note: The original SF-424 must bear the original signature of the authorizing representative of the applicant organization.)

4. Budget Information-Non-Construction Programs—(SF-424A).

5. A narrative budget justification for each object class category required under Section B, SF-424A.

6. Certifications and Assurances Required:

Applicants requesting financial assistance for a non-construction project must sign and return Standard Form 424B, “Assurances: Non-Construction Programs” with their applications. (See Attachment D.)

Applicants must provide a Certification Regarding Lobbying. Prior to receiving an award in excess of $100,000, applicants shall furnish an executed copy of the lobbying certification. Applicants must sign and return the certification with their application. (See Attachment H.)

Applicants must make the appropriate certification of their compliance with the Drug-Free Workplace Act of 1988. By signing and submitting the applications, applicants are providing the certification and need not mail back the certification with the applications. (See Attachment E.)

Applicants must make the appropriate certification that they are not presently debarred, suspended or otherwise ineligible for award. By signing and submitting the applications, applicants are providing the certification and need not mail back the certification with the applications. (See Attachment F.)

Applicants must make the appropriate certification of their compliance with all Federal statutes relating to nondiscrimination. By signing and submitting the applications, applicants are providing the certification and need not mail back a certification form.

Applicants must make the appropriate certification of their compliance with the requirements of the Pro-Children Act of 1994 as outlined in Certification Regarding Environmental Tobacco Smoke. (See Attachment J.)

7. A Project Narrative of no more than 30 pages, consisting of the Elements described in Part IV of this announcement set forth in the order therein presented and preceded by a consecutively numbered table of contents.

8. Appendices—proof of nonprofit tax-exempt status as outlined in Part II, section A; proof that the organization is a community development corporation, if applying under the CDC Set-Aside; commitments from officials of businesses that will be expanded or franchised, where applicable; partnership agreement with the designated State TANF agency and CSE agency; Single Point of Contact comments, if applicable; resumes and position descriptions; a business plan, where required; and the Maintenance of Effort Certification (see Part II-J and Attachment M).

The total number of pages for the narrative portion of the application package must not exceed 30 pages. (See Part V.F.3. for pages that do not count against the 30-page limit.)

Pages should be numbered sequentially throughout, including appendices, beginning with the Abstract as page 1.

B. Application Format

Applications must be uniform in composition since OCS may find it necessary to duplicate them for review purposes. Therefore, applications must be submitted on white 8 ½ × 11 inch paper only. Applications must not include colored, oversized or folded materials. Applications should not include organizational brochures or other promotional materials, slides, films, clips, etc., in the proposal. Such material will not be reviewed and will be discarded if included.

Applications must be bound or enclosed in loose-leaf binder notebooks. Preferably, applications should be two-holed punched at the top center and fastened separately with a compressor slide paper fastener, or a binder clip.

C. Acknowledgment of Receipt

Applicants who meet the initial screening criteria outlined in Part V, Section E, will receive an acknowledgment with an assigned identification number within ten days after the deadline date for submission of applications. To facilitate receipt of this acknowledgment from ACF, applicant is asked to include a cover letter with the application containing an E-mail address and facsimile (FAX) number if these items are available to applicant.

Applicants are requested to supply a self-addressed mailing label with their application which can be attached to this acknowledgment notice. This mailing label should reflect the mailing address of the authorizing official who is applying on behalf of the organization. This number and the program letter code, i.e., JO or JS, must be referred to in all subsequent communications with OCS concerning the application. If an acknowledgment is not received within three weeks after the closing date, please notify ACF by telephone at (202) 401-5103.

Part VIII—Post Award Information and Reporting Requirements

A. Notification of Grant Award

Following approval of the application selected for funding, notice of project approval and authority to draw down project funds will be made in writing. The official award document is the Financial Assistance Award which provides the amount of Federal funds approved for use in the project, the project and budget periods for which support is provided, the terms and conditions of the award, and the total project period for which support is contemplated.

B. Attendance at Evaluation Workshops

The Project Directors and third party evaluators will be required to attend two national evaluation workshops in Washington, DC. A three-day program development and evaluation workshop will be scheduled shortly after the effective date of the grant. They also will be required to attend, as presenters, the final evaluation workshop on utilization and dissemination to be held at the end of the project period. Project budgets must include funds for travel to and attendance at these workshops. (See Part IV, Element VI, Budget Appropriateness and Reasonableness.)

C. Reporting Requirements

Grantees will be required to submit semi-annual program progress and financial reports (SF 269) as well as final program progress and financial reports within 90 days of the expiration of the grant. An annual evaluation report will be due 30 days after each twelve months. A final evaluation report will be due 90 days after the expiration of the grant.

D. Audit Requirements

Grantees are subject to the audit requirements in 45 CFR Part 74 (nonprofit organization) and OMB Circular A-133.

E. Prohibitions and Requirements With Regard to Lobbying

Section 319 of Public Law 101-121, signed into law on October 23, 1989, imposes prohibitions and requirements for disclosure and certification related to lobbying on recipients of Federal contracts, grants, cooperative agreements, and loans. It provides limited exemptions for Indian tribes and tribal organizations. Current and prospective recipients (and their subtier contractors and/or grantees) are prohibited from using appropriated funds for lobbying Congress or any Federal agency in connection with the award of a contract, grant, cooperative agreement or loan. In addition, for each award action in excess of $100,000 (or $150,000 for loans) the law requires recipients and their subtier contractors and/or subgrantees (1) to certify that they have neither used nor will use any appropriated funds for payment to lobbyists, (2) to submit a declaration setting forth whether payments to lobbyists have been or will be made out of non-appropriated funds and, if so, the name, address, payment details, and purpose of any agreements with such lobbyists whom recipients or their subtier contractors or subgrantees will pay with the non-appropriated funds and (3) to file quarterly up-dates about the use of lobbyists if an event occurs that materially affects the accuracy of the information submitted by way of declaration and certification.

The law establishes civil penalties for noncompliance and is effective with respect to contracts, grants, cooperative agreements and loans entered into or made on or after December 23, 1989. See Attachment H for certification and disclosure forms to be submitted with the applications for this program.

F. Applicable Federal Regulations

Attachment K indicates the regulations that apply to all applicants/grantees under the Job Opportunities for Low-Income Individuals Program.

Dated: August 4, 2000.
Donald Sykes,
Director, Office of Community Services.

Job Opportunities for Low-Income Individuals Attachments

A 2000 Poverty Income Guidelines

B Standard Form 424

C Standard Form 424A

D Standard Form 424B

E Certification Regarding Drug-Free Workplace

F Certification of Debarment

G E.O. 12372 State Single Point of Contact List

H Certification Regarding Lobbying Activities and Disclosure of Lobbying Activities, SF-LLL

I State Administrators Responsible for TANF

J Certification Regarding Environmental Tobacco Smoke

K DHHS Regulations Applying to All Applicants/ Grantees Under the Job Opportunities for Low-Income Individuals (JOLI) Program

L Business Plan

M Certification Regarding Maintenance of Effort

N State Child Support Enforcement Agencies

O Applicant's Checklist

Attachment A
Size of family unit | Poverty guideline
2000 Poverty Guidelines for the 48 Contiguous States and the District of Columbia:
1 | $8,350
2 | 11,250
3 | 14,150
4 | 17,050
5 | 19,950
6 | 22,850
7 | 25,750
8 | 28,650
For family units with more than 8 members, add $2,900 for each additional member. (The same increment applies to smaller family sizes also, as can be seen in the figures above).
2000 Poverty Guidelines for Alaska:
1 | 10,430
2 | 14,060
3 | 17,690
4 | 21,320
5 | 24,950
6 | 28,580
7 | 32,210
8 | 35,840
For family units with more than 8 members, add $3,630 for each additional member. (The same increment applies to smaller family sizes also, as can be seen in the figures above).
2000 Poverty Guidelines for Hawaii:
1 | 9,590
2 | 12,930
3 | 16,270
4 | 19,610
5 | 22,950
6 | 26,290
7 | 29,630
8 | 32,970
For family units with more than 8 members, add $3,340 for each additional member. (The same increment applies to smaller family sizes also, as can be seen in the figures above).

BILLING CODE 4184-01- (FNP)

Instructions for the SF-424—Attachment B

Public reporting burden for this collection of information is estimated to average 45 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0043), Washington, DC 20503.

Please do not return your completed form to the Office of Management and Budget. Send it to the address provided by the sponsoring agency.

This is a standard form used by applicants as a required facesheet for preapplications and applications submitted for Federal assistance. It will be used by Federal agencies to obtain applicant certification that States which have established a review and comment procedure in response to Executive Order 12372 and have selected the program to be included in their process, have been given an opportunity to review the applicant's submission.

Item and Entry

1. Self-explanatory.

2. Date application submitted to Federal agency (or State if applicable) and applicant's control number (if applicable).

3. State use only (if applicable).

4. If this application is to continue or revise an existing award, enter present Federal identifier number. If for a new project, leave blank.

5. Legal name of applicant, name of primary organizational unit which will undertake the assistance activity, complete address of the applicant, and name and telephone number of the person to contact on matters related to this application.

6. Enter Employer Identification Number (EIN) as assigned by the Internal Revenue Service.

7. Enter the appropriate letter in the space provided.

8. Check appropriate box and enter appropriate letter(s) in the space(s) provided:

—“New” means a new assistance award.

—“Continuation” means an extension for an additional funding/budget period for a project with a projected completion date.

—“Revision” means any change in the Federal Government's financial obligation or contingent liability from an existing obligation.

9. Name of Federal agency from which assistance is being requested with this application.

10. Use the Catalog of Federal Domestic Assistance number and title of the program under which assistance is requested.

11. Enter a brief descriptive title of the project. If more than one program is involved, you should append an explanation on a separate sheet. If appropriate (e.g., construction or real property projects), attach a map showing project location. For preapplications, use a separate sheet to provide a summary description of this project.

12. List only the largest political entities affected (e.g., State, counties, cities).

13. Self-explanatory.

14. List the applicant's Congressional District and any District(s) affected by the program or project.

15. Amount requested or to be contributed during the first funding/budget period by each contributor. Value of in-kind contributions should be included on appropriate lines as applicable. If the action will result in a dollar change to an existing award, indicate only the amount of the change. For decreases, enclose the amounts in parentheses. If both basic and supplemental amounts are included, show breakdown on an attached sheet. For multiple program funding, use totals and show breakdown using same categories as item 15.

16. Applicants should contact the State Single Point of Contact (SPOC) for Federal Executive Order 12372 to determine whether the application is subject to the State intergovernmental review process.

17. This question applies to the applicant organization, not the person who signs as the authorized representative. Categories of debt include delinquent audit disallowances, loans and taxes.

18. To be signed by the authorized representative of the applicant. A copy of the governing body's authorization for you to sign this application as official representative must be on file in the applicant's office. (Certain Federal agencies may require that this authorization be submitted as part of the application.)

BILLING CODE 4184-01-P

BILLING CODE 4184-01-C

Instructions for the SF-424A—Attachment C

Public reporting burden for this collection of information is estimated to average 180 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0040), Washington, DC 20503.

Please do not return your completed form to the Office of Management and Budget. Send it to the address provided by the sponsoring agency.

General Instructions

This form is designed so that application can be made for funds from one or more grant programs. In preparing the budget, adhere to any existing Federal grantor agency guidelines which prescribe how and whether budgeted amounts should be separately shown for different functions or activities within the program. For some programs, grantor agencies may require budgets to be separately shown by functions or activity. For other programs, grantor agencies may require a breakdown by function or activity. Sections A, B, C, and D should include budget estimates for the whole project except when applying for assistance which requires Federal authorization in annual or other funding period increments. In the latter case, Sections A, B, C, and D should provide the budget for the first budget period (usually a year) and Section E should present the need for Federal assistance in the subsequent budget periods. All applications should contain a breakdown by the object class categories shown in Lines a-k of Section B.

Section A. Budget Summary Lines 1-4

Columns (a) and (b)

For applications pertaining to a single Federal grant program (Federal Domestic Assistance Catalog number) and not requiring a functional or activity breakdown, enter on Line 1 under Column (a) the Catalog program title and the Catalog number in Column (b).

For applications pertaining to a single program requiring budget amounts by multiple functions or activities, enter the name of each activity or function on each line in Column (a), and enter the Catalog number in Column (b). For applications pertaining to multiple programs where none of the programs require a breakdown by function or activity, enter the Catalog program title on each lien in Column (a) and the respective Catalog number on each lien in Column (b).

For applications pertaining to multiple programs where one or more programs require a breakdown by function or activity, prepare a separate sheet for each program requiring the breakdown. Additional sheets should be used when one form does not provide adequate space for all breakdown of data required. However, when more than one sheet is used, the first page should provide the summary totals by programs.

Lines 1-4, Columns (c) through (g)

For new applications, leave Column (c) and (d) blank. For each line entry in Columns (a) and (b), enter in Columns (e), (f), and (g) the appropriate amounts of funds needed to support the project for the first funding period (usually a year).

For continuing grant program applications, submit these forms before the end of each funding period as required by the grantor agency. Enter in Columns (c) and (d) the estimated amounts of funds which will remain unobligated at the end of the grant funding period only if the Federal grantor agency instructions provide for this. Otherwise, leave these columns blank. Enter in columns (e) and (f) the amounts of funds needed for the upcoming period. The amount(s) in Column (g) should be the sum of amounts in Columns (e) and (f).

For supplemental grants and changes to existing grants, do not use Columns (c) and (d). Enter in Column (e) the amount of the increase or decrease of Federal funds and enter in Column (f) the amount of the increase or decrease of non-Federal funds. In Column (g) enter the new total budgeted amount (Federal and non-Federal) which includes the total previous authorized budgeted amounts plus or minus, as appropriate, the amounts shown in Columns (e) and (f). The amount(s) in Column (g) should not equal the sum of amounts in Columns (e) and (f).

Line 5—Show the totals for all columns used.

Section B. Budget Categories

In the column headings (1) through (4), enter the titles of the same programs, functions, and activities shown on Lines 1-4, Column (a), Section A. When additional sheets are prepared for Section A, provide similar column headings on each sheet. For each program, function or activity, fill in the total requirements for funds (both Federal and non-Federal) by object class categories.

Line 6a-i—Show the totals of Lines 6a to 6h in each column.

Line 6j—Show the amount of indirect cost.

Line 6k—Enter the total of amounts on Lines 6i and 6j. For all applications for new grants and continuation grants the total amount in column (5), Line 6k, should be the same as the total amount shown in Section A, Column (g), Line 5. For supplemental grants and changes to grants, the total amount of the increase or decrease as shown in Columns (1)-(4), Line 6k should be the same as the sum of the amounts in Section A, Columns (e) and (f) on Line 5.

Line 7—Enter the estimated amount of income, if any, expected to be generated from this project. Do not add or subtract this amount from the total project amount. Show under the program narrative statement the nature and source of income. The estimated amount of program income may be considered by the Federal grantor agency in determining the total amount of the grant.

Section C. Non-Federal Resources

Lines 8-11—Enter amounts of non-Federal resources that will be used on the grant. If in-kind contributions are included, provide a brief explanation on a separate sheet.

Column (a)—Enter the program titles identical to Column (a), Section A. A breakdown by function or activity is not necessary.

Column (b)—Enter the contribution to be made by the applicant.

Column (c)—Enter the amount of the State's cash and in-kind contribution if the applicant is not a State or State agency. Applicants which are a State or State agencies should leave this column blank.

Column (d)—Enter the amount of cash and in-kind contributions to be made from all other sources.

Column (e)—Enter totals of Columns (b), (c), and (d).

Line 12—Enter the total for each of Columns (b)-(e). The amount in Column (e) should be equal to the amount on Line 5, Column (f), Section A.

Section D. Forecasted Cash Needs

Line 13—Enter the amount of cash needed by quarter from the grantor agency during the first year.

Line 14—Enter the amount of cash from all other sources needed by quarter during the first year.

Line 15e—Enter the totals of amounts on Lines 13 and 14.

Section E. Budget Estimates of Federal Funds Needed for Balance of the Project

Lines 16-19—Enter in Column (a) the same grant program titles shown in Column (a), Section A. A breakdown by function or activity is not necessary. For new applications and continuation grant applications, enter in the proper columns amounts of Federal funds which will be needed to complete the program or project over the succeeding funding periods (usually in years). This section need not be completed for revisions (amendments, changes, or supplements) to funds for the current year of existing grants.

If more than four lines are needed to list the program titles, submit additional schedules as necessary.

Line 20—Enter the total for each of the Columns (b)-(e). When additional schedules are prepared for this Section, annotate accordingly and show the overall totals on this line.

Section F. Other Budget Information

Line 21—Use this space to explain amounts for individual direct object class cost categories that may appear to be out of the ordinary or to explain the details as required by the Federal grantor agency.

Line 22—Enter the type of indirect rate (provisional, predetermined, final or fixed) that will be in effect during the funding period, the estimated amount of the base to which the rate is applied, and the total indirect expense.

Line 23—Provide any other explanations or comments deemed necessary.

Assurances—Non-Construction Programs—Attachment D

Public reporting burden for this collection of information is estimated to average 15 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0040), Washington, DC 20503.

Please do not return your completed form to the Office of Management and Budget. Send it to the address provided by the sponsoring agency.

Note: Certain of these assurances may not be applicable to your project or program. If you have questions, please contact the awarding agency. Further, certain Federal awarding agencies may require applicants to certify to additional assurances. If such is the case, you will be notified.

As the duly authorized representative of the applicant, I certify that the applicant:

1. Has the legal authority to apply for Federal assistance and the institutional, managerial and financial capability (including funds sufficient to pay the non-Federal share of project cost) to ensure proper planning, management and completion of the project described in this application.

2. Will give the awarding agency, the Comptroller General of the United States and, if appropriate, the State, through any authorized representative, access to and the right to examine all records, books, papers, or documents related to the award; and will establish a proper accounting system in accordance with generally accepted accounting standards or agency directives.

3. Will establish safeguards to prohibit employees from using their positions for a purpose that constitutes or presents the appearance of personal or organizational conflict of interest, or personal gain.

4. Will initiate and complete the work within the applicable time frame after receipt of approval of the awarding agency.

5. Will comply with the Intergovernmental Personnel Act of 1970 (42 U.S.C. §§ 4728-4763) relating to prescribed standards for merit systems for programs funded under one of the 19 statutes or regulations specified in Appendix A of OPM's Standards for a Merit System of Personnel Administration (5 C.F.R. 900, Subpart F).

6. Will comply with all Federal statutes relating to nondiscrimination. These include but are not limited to: (a) Title VI of the Civil Rights Act of 1964 (P.L. 88-352) which prohibits discrimination on the basis of race, color or national origin; (b) Title IX of the Education Amendments of 1972, as amended (20 U.S.C. §§ 1681-1683, and 1685-1686), which prohibits discrimination on the basis of sex; (c) Section 504 of the Rehabilitation Act of 1973, as amended (29 U.S.C. § 794), which prohibits discrimination on the basis of handicaps; (d) the Age Discrimination Act of 1975, as amended (42 U.S.C. §§ 6101-6107), which prohibits discrimination on the basis of age; (e) the Drug Abuse Office and Treatment Act of 1972 (P.L. 92-255), as amended, relating to nondiscrimination on the basis of drug abuse; (f) the Comprehensive Alcohol Abuse and Alcoholism Prevention, Treatment and Rehabilitation Act of 1970 (P.L. 91-616 , as amended, relating to nondiscrimination on the basis of alcohol abuse or alcoholism; (g) §§ 523 and 527 of the Public Health Service Act of 1912 (42 U.S.C. §§ 290 dd-3 and 290 ee 3), as amended, relating to confidentiality of alcohol and drug abuse patient records; (h) Title VIII of the Civil Rights Act of 1968 (42 U.S.C. §§ 3601 et seq.), as amended, relating to nondiscrimination in the sale, rental or financing of housing; (i) any other nondiscrimination provisions in the specific statute(s) under which application for Federal assistance is being made; and, (j) the requirements of any other nondiscrimination statute(s) which may apply to the application.

7. Will comply, or has already complied, with the requirements of Titles II and III of the Uniform Relocation Assistance and Real Property Acquisition Policies Act of 1970 (P.L. 91-646) which provide for fair and equitable treatment of persons displaced or whose property is acquired as a result of Federal or federally-assisted programs. These requirements apply to all interests in real property acquired for project purposes regardless of Federal participation in purchases.

8. Will comply, as applicable, with provisions of the Hatch Act (5 U.S.C. §§ 1501-1508 and 7324-7328) which limit the political activities of employees whose principal employment activities are funded in whole or in part with Federal funds.

9. Will comply, as applicable, with the provisions of the Davis-Bacon Act (40 U.S.C. §§ 276a to 276a-7), the Copeland Act (40 U.S.C. § 276c and 18 U.S.C. § 874), and the Contract Work Hours and Safety Standards Act (40 U.S.C. §§ 327-333), regarding labor standards for federally-assisted construction subagreements.

10. Will comply, if applicable, with flood insurance purchase requirements of Section 102(a) of the Flood Disaster Protection Act of 1973 (P.L. 93-234) which requires recipients in a special flood hazard area to participate in the program and to purchase flood insurance if the total cost of insurable construction and acquisition is $10,000 or more.

11. Will comply with environmental standards which may be prescribed pursuant to the following: (a) institution of environmental quality control measures under the National Environmental Policy Act of 1969 (P.L. 91-190) and Executive Order (EO) 11514; (b) notification of violating facilities pursuant to EO 11738; (c) protection of wetlands pursuant to EO 11990; (d) evaluation of flood hazards in floodplains in accordance with EO 11988; (e) assurance of project consistency with the approved State management program developed under the Coastal Zone Management Act of 1972 (16 U.S.C. §§ 1451 et seq.); (f) conformity of Federal actions to State (Clean Air) Implementation Plans under Section 176(c) of the Clean Air Act of 1955, as amended (42 U.S.C. §§ 7401 et seq.); (g) protection of underground sources of drinking water under the Safe Drinking Water Act of 1974, as amended (P.L. 93-523); and, (h) protection of endangered species under the Endangered Species Act of 1973, as amended (P.L. 93-205).

12. Will comply with the Wild and Scenic Rivers Act of 1968 (16 U.S.C. §§ 1271 et seq.) related to protecting components or potential components of the national wild and scenic rivers system.

13. Will assist the awarding agency in assuring compliance with Section 106 of the National Historic Preservation Act of 1966, as amended (16 U.S.C. § 470), EO 11593 (identification and protection of historic properties), and the Archaeological and Historic Preservation Act of 1974 (16 U.S.C. §§ 469a-1 et seq.).

14. Will comply with P.L. 93-348 regarding the protection of human subjects involved in research, development, and related activities supported by this award of assistance.

15. Will Comply with the Laboratory Animal Welfare Act of 1966 (P.L. 89-544, as amended, 7 U.S.C. §§ 2131 et seq.) pertaining to the care, handling, and treatment of warm blooded animals held for research, teaching, or other activities supported by this award of assistance.

16. Will comply with the Lead-Based Paint Poisoning Prevention Act (42 U.S.C. §§ 4801 et seq.) which prohibits the use of lead-based paint in construction or rehabilitation of residence structures.

17. Will cause to be performed the required financial and compliance audits in accordance with the Single Audit Act Amendments of 1996 and OMB Circular No. A-133, “Audits of States, Local Governments, and Non-Profit Organizations.”

18. Will comply with all applicable requirements of all other Federal laws, executive orders, regulations, and policies governing this program.

Signature of Authorized Certifying Official

Title

Applicant Organization

Date Submitted

Certification Regarding Drug-Free Workplace Requirements—Attachment E

This certification is required by the regulations implementing the Drug-Free Workplace Act of 1988: 45 CFR Part 76, Subpart, F. Sections 76.630(c) and (d)(2) and 76.645(a)(1) and (b) provide that a Federal Agency may designate a central receipt point for STATE-WIDE AND STATE AGENCY-WIDE certifications, and for notification of criminal drug convictions. For the Department of Health and Human Services, the central pint is: Division of Grants Management and Oversight, Office of Management and Acquisition, Department of Health and Human Services, Room 517-D, 200 Independence Avenue, SW Washington, DC 20201.

Certification Regarding Drug-Free Workplace Requirements (Instructions for Certification)

1. By signing and/or submitting this application or grant agreement, the grantee is providing the certification set out below.

2. The certification set out below is a material representation of fact upon which reliance is placed when the agency awards the grant. If it is later determined that the grantee knowingly rendered a false certification, or otherwise violates the requirements of the Drug-Free Workplace Act, the agency, in addition to any other remedies available to the Federal Government, may take action authorized under the Drug-Free Workplace Act.

3. For grantees other than individuals, Alternate I applies.

4. For grantees who are individuals, Alternate II applies.

5. Workplaces under grants, for grantees other than individuals, need not be identified on the certification. If known, they may be identified in the grant application. If the grantee does not identify the workplaces at the time of application, or upon award, if there is no application, the grantee must keep the identify of the workplace(s) on file in its office and make the information available for Federal inspection. Failure to identify all known workplaces constitutes a violation of the grantee's drug-free workplace requirements.

6. Workplace identifications must include the actual address of buildings (or parts of buildings) or other sites where work under the grant takes place. Categorical descriptions may be used (e.g., all vehicles of a mass transit authority or State highway department while in operation, State employees in each local unemployment office, performers in concert halls or radio studios).

7. If the workplace identified to the agency changes during the performance of the grant, the grantee shall inform the agency of the change(s), if it previously identified the workplaces in question (see paragraph five).

8. Definitions of terms in the Nonprocurement Suspension and Debarment common rule and Drug-Free Workplace common rule apply to this certification. Grantees' attention is called, in particular, to the following definitions from these rules:

Controlled substance means a controlled substance in Schedules I through V of the Controlled Substances Act (21 U.S.C. 812) and as further defined by regulation (21 CFR 1308.11 through 1308.15);

Conviction means a finding of guilt (including a plea of nolo contendere) or imposition of sentence, or both, by any judicial body charged with the responsibility to determine violations of the Federal or State criminal drug statutes;

Criminal drug statute means a Federal or non-Federal criminal statute involving the manufacture, distribution, dispensing, use, or possession of any controlled substance;

Employee means the employee of a grantee directly engaged in the performance of work under a grant, including: (i) All direct charge employees; (ii) All indirect charge employees unless their impact or involvement is insignificant to the performance of the grant; and, (iii) Temporary personnel and consultants who are directly engaged in the performance of work under the grant and who are on the grantee's payroll. This definition does not include workers not on the payroll of the grantee (e.g., volunteers, even if used to meet a matching requirement; consultants or independent contractors not on the grantee's payroll; or employees of subrecipients or subcontractors in covered workplaces).

Certification Regarding Drug-Free Workplace Requirements

Alternate I. (Grantees Other Than Individuals)

The grantee certifies that it will or will continue to provide a drug-free workplace by:

(a) Publishing a statement notifying employees that the unlawful manufacture, distribution, dispensing, possession, or use of a controlled substance is prohibited in the grantee's workplace and specifying the actions that will be taken against employees for violation of such prohibition;

(b) Establishing an ongoing drug-free awareness program to inform employees about—

(1) The dangers of drug abuse in the workplace;

(2) The grantee's policy of maintaining a drug-free workplace;

(3) Any available drug counseling, rehabilitation, and employee assistance programs; and

(4) The penalties that may be imposed upon employees for drug abuse violations occurring in the workplace;

(c) Making it a requirement that each employee to be engaged in the performance of the grant be given a copy of the statement required by paragraph (a);

(d) Notifying the employee in the statement required by paragraph (a) that, as a condition of employment under the grant, the employee will—

(1) Abide by the terms of the statement; and

(2) Notify the employer in writing of his or her conviction for a violation of a criminal drug statute occurring in the workplace no later than five calendar days after such conviction;

(e) Notifying the agency in writing, within ten calendar days after receiving notice under paragraph (d)(2) from an employee or otherwise receiving actual notice of such conviction. Employers of convicted employees must provide notice, including position title, to every grant officer or other designee on whose grant activity the convicted employee was working, unless the Federal agency has designated a central point for the receipt of such notices. Notice shall include the identification number(s) of each affected grant;

(f) Taking one of the following actions, within 30 calendar days of receiving notice under paragraph (d)(2), with respect to any employee who is so convicted—

(1) Taking appropriate personnel action against such an employee, up to and including termination, consistent with the requirements of the Rehabilitation Act of 1973, as amended; or

(2) Requiring such employee to participate satisfactorily in a drug abuse assistance or rehabilitation program approved for such purposes by a Federal, State, or local health, law enforcement, or other appropriate agency;

(g) Making a good faith effort to continue to maintain a drug-free workplace through implementation of paragraphs (a), (b), (c), (d), (e) and (f).

(B) The grantee may insert in the space provided below the site(s) for the performance of work done in connection with the specific grant:

Place of Performance (Street address, city, county, state, zip code)

Check if there are workplaces on file that are not identified here.

Alternate II. (Grantees Who Are Individuals)

(a) The grantee certifies that, as a condition of the grant, he or she will not engage in the unlawful manufacture, distribution, dispensing,possession, or use of a controlled substance in conducting any activity with the grant;

(b) If convicted of a criminal drug offense resulting from a violation occurring during the conduct of any grant activity, he or she will report the conviction, in writing within 10 calendar days of the conviction, to every grant officer or other designee, unless the Federal agency designates a central point for the receipt of such notices. When notices is made to such a central point, it shall include the identification number(s) of each affected grant.

[55 FR 21690, 21702, May 25, 1990]

Certification Regarding Debarment, Suspension and Other Responsibility Matters—Attachment F

Certification Regarding Debarment, Suspension and Other Responsibility Matters—Primary Covered Transactions

Instructions for Certification

1. By signing and submitting this proposal, the prospective primary participant is providing the certification set out below.

2. The inability of a person to provide the certification required below will not necessarily result in denial of participation in this covered transaction. The prospective participant shall submit an explanation of why it cannot provide the certification set out below. The certification or explanation will be considered in connection with the department or agency's determination whether to enter into this transaction. However, failure of the prospective primary participant to furnish a certification or an explanation shall disqualify such person from participation in this transaction.

3. The certification in this clause is a material representation of fact upon which reliance was placed when the department or agency determined to enter into this transaction. If it is later determined that the prospective primary participant knowingly rendered an erroneous certification, in addition to other remedies available to the Federal Government, the department or agency may terminate this transaction for cause or default.

4. The prospective primary participant shall provide immediate written notice to the department or agency to which this proposal is submitted if at any time the prospective primary participant learns that its certification was erroneous when submitted or has become erroneous by reason of changed circumstances.

5. The terms covered transaction, debarred, suspended, ineligible, lower tier covered transaction, participant, person, primary covered transaction, principal, proposal, and voluntarily excluded, as used in this clause, have the meanings set out in the Definitions and Coverage sections of the rules implementing Executive Order 12549. You may contact the department or agency to which this proposal is being submitted for assistance in obtaining a copy of those regulations.

6. The prospective primary participant agrees by submitting this proposal that, should the proposed covered transaction be entered into, it shall not knowingly enter into any lower tier covered transaction with a person who is proposed for debarment under 48 CFR part 9, subpart 9.4, debarred, suspended, declared ineligible, or voluntarily excluded from participation in this covered transaction, unless authorized by the department or agency entering into this transaction.

7. The prospective primary participant further agrees by submitting this proposal that it will include the clause titled “Certification Regarding Debarment, Suspension, Ineligibility and Voluntary Exclusion-Lower Tier Covered Transaction,” provided by the department or agency entering into this covered transaction, without modification, in all lower tier covered transactions and in all solicitations for lower tier covered transactions.

8. A participant in a covered transaction may rely upon a certification of a prospective participant in a lower tier covered transaction that it is not proposed for debarment under 48 CFR part 9, subpart 9.4, debarred, suspended, ineligible, or voluntarily excluded from the covered transaction, unless it knows that the certification is erroneous. A participant may decide the method and frequency by which it determines the eligibility of its principals. Each participant may, but is not required to, check the List of Parties Excluded from Federal Procurement and Nonprocurement Programs.

9. Nothing contained in the foregoing shall be construed to require establishment of a system of records in order to render in good faith the certification required by this clause. The knowledge and information of a participant is not required to exceed that which is normally possessed by a prudent person in the ordinary course of business dealings.

10. Except for transactions authorized under paragraph 6 of these instructions, if a participant in a covered transaction knowingly enters into a lower tier covered transaction with a person who is proposed for debarment under 48 CFR part 9, subpart 9.4, suspended, debarred, ineligible, or voluntarily excluded from participation in this transaction, in addition to other remedies available to the Federal Government, the department or agency may terminate this transaction for cause or default.

Certification Regarding Debarment, Suspension and Other Responsibility Matters—Primary Covered Transactions

(1) The prospective primary participant certifies to the best of its knowledge and belief, that it and its principals;

(a) Are not presently debarred, suspended, proposed for debarment, declared ineligible, or voluntarily excluded by any Federal department or agency;

(b) Have not within a three-year period preceding this proposal been convicted of or had a civil judgment rendered against them for commission of fraud or a criminal offense in connection with obtaining, attempting to obtain, or performing a public (Federal, State or local) transaction or contract under a public transaction; violation of Federal or State antitrust statutes or commission of embezzlement, theft, forgery, bribery, falsification or destruction of records, making false statements, or receiving stolen property;

(c) Are not presently indicted for or otherwise criminally or civilly charged by a governmental entity (Federal, State or local) with commission of any of the offenses enumerated in paragraph (1)(b) of this certification; and

(d) Have not within a three-year period preceding this application/proposal had one or more public transactions (Federal, State or local) terminated for cause or default.

(2) Where the prospective primary participant is unable to certify to any of the statements in this certification, such prospective participant shall attach an explanation to this proposal.

Certification Regarding Debarment, Suspension, Ineligibility and Voluntary Exclusion—Lower Tier Covered Transactions

Instructions for Certification

1. By signing and submitting this proposal, the prospective lower tier participant is providing the certification set out below.

2. The certification in this clause is a material representation of fact upon which reliance was placed when this transaction was entered into. If it is later determined that the prospective lower tier participant knowingly rendered an erroneous certification, in addition to other remedies available to the Federal Government the department or agency with which this transaction originated may pursue available remedies, including suspension and/or debarment.

3. The prospective lower tier participant shall provide immediate written notice to the person to which this proposal is submitted if at any time the prospective lower tier participant learns that its certification was erroneous when submitted or had become erroneous by reason of changed circumstances.

4. The terms covered transaction, debarred, suspended, ineligible, lower tier covered transaction, participant, person, primary covered transaction, principal, proposal, and voluntarily excluded, as used in this clause, have the meaning set out in the Definitions and Coverage sections of rules implementing Executive Order 12549. You may contact the person to which this proposal is submitted for assistance in obtaining a copy of those regulations.

5. The prospective lower tier participant agrees by submitting this proposal that, [[Page 33043]] should the proposed covered transaction be entered into, it shall not knowingly enter into any lower tier covered transaction with a person who is proposed for debarment under 48 CFR part 9, subpart 9.4, debarred, suspended, declared ineligible, or voluntarily excluded from participation in this covered transaction, unless authorized by the department or agency with which this transaction originated.

6. The prospective lower tier participant further agrees by submitting this proposal that it will include this clause titled “Certification Regarding Debarment, Suspension, Ineligibility and Voluntary Exclusion-Lower Tier Covered Transaction,” without modification, in all lower tier covered transactions and in all solicitations for lower tier covered transactions.

7. A participant in a covered transaction may rely upon a certification of a prospective participant in a lower tier covered transaction that it is not proposed for debarment under 48 CFR part 9, subpart 9.4, debarred, suspended, ineligible, or voluntarily excluded from covered transactions, unless it knows that the certification is erroneous. A participant may decide the method and frequency by which it determines the eligibility of its principals. Each participant may, but is not required to, check the List of Parties Excluded from Federal Procurement and Nonprocurement Programs.

8. Nothing contained in the foregoing shall be construed to require establishment of a system of records in order to render in good faith the certification required by this clause. The knowledge and information of a participant is not required to exceed that which is normally possessed by a prudent person in the ordinary course of business dealings.

9. Except for transactions authorized under paragraph 5 of these instructions, if a participant in a covered transaction knowingly enters int a lower tier covered transaction with a person who is proposed for debarment under 48 CFR part 9, subpart 9.4, suspended, debarred, ineligible, or voluntarily excluded from participation in this transaction, in addition to other remedies available to the Federal Government, the department or agency with which this transaction originated may pursue available remedies, including suspension and/or debarment.

Certification Regarding Debarment, Suspension, Ineligibility an Voluntary Exclusion—Lower Tier Covered Transactions

(1) The prospective lower tier participant certifies, by submission of this proposal, that neither it nor its principals is presently debarred, suspended, proposed for debarment, declare ineligible, or voluntarily excluded from participation in this transaction by any Federal department or agency.

(2) Where the prospective lower tier participant is unable to certify to any of the statements in this certification, such prospective participant shall attach an explanation to the proposal.

State Single Points of Contact (SPOCs)—Attachment G

Office of Management and Budget

It is estimated that in 2001, the Federal Government will outlay $305.6 billion in grants to State and local governments. Executive Order 12372, “Intergovernmental Review of Federal Programs,” was issued with the desire to foster the intergovernmental partnership and strengthen federalism by relying on State and local processes for the coordination and review of proposed Federal financial assistance and direct Federal development. The Order allows each State to designate an entity to perform this function. Below is the official list of those entities. For those States that have a home page for their designated entity, a direct link has been provided below. States that are not listed on this page have chosen not to participate in the intergovernmental review process, and therefore do not have a SPOC. If you are located within one of these States, you may still send application materials directly to a Federal awarding agency.

ARIZONA

Joni, Saad, Arizona State Clearinghouse, 3800 N. Central Avenue, Fourteenth Floor, Phoenix, Arizona 85012, Telephone: (602) 280-1315, Fax: (602) 280-8144, jonis@ep.state.az.us

ARKANSAS

Tracy L. Copeland, Manager, State Clearinghouse, Office of Intergovernmental Services, Department of Finance and Administration, 1515 W. 7th St., Room 412, Little Rock, Arkansas 72203, Telephone: (501) 682-1074, Fax: (501) 682-5206, tlcopeland@dfa.state.ar.us

CALIFORNIA

Grants Coordination, State Clearinghouse, Office of Planning and Research, P.O. Box 3044, Room 222, Sacramento, California 95812-3044, Telephone: (916) 445-0613, Fax: (916) 323-3018, state.clearninghouse@opr.ca.gov

DELAWARE

Charles H. Hopkins, Executive Department, Office of the Budget, 540 S. Dupont Highway, 3rd Floor, Dover, Delaware 19901, Telephone: (302) 739-3323, Fax: (302) 739-5661, chopkins@state.de.us

DISTRICT OF COLUMBIA

Ron Seldon, Office of Grants Management and Development, 717 14th Street NW., Suite 1200, Washington, DC 20005, Telephone: (202) 727-1705, Fax: (202) 727-1617, ogmd-ogmd@dcgov.org

FLORIDA

Cherie L. Trainor, Florida State Clearinghouse, Department of Community Affairs, 2555 Shumard Oak Blvd., Tallahassee, Florida 32399-2100, Telephone: (850) 922-5438, (850) 414-5495 (direct), Fax: (850) 414-0479, cherie.trainor@dca.state.fl.us

GEORGIA

Georgia State Clearinghouse, 270 Washington Street, SW, Atlanta, Georgia 30334, Telephone: (404) 656-3855, Fax: (404) 656-7901, gach@mail.opb.state.ga.us

ILLINOIS

Virginia Bova, Department of Commerce and Community Affairs, James R. Thompson Center, 100 West Randolph, Suite 3-400, Chicago, Illinois 60601, Telephone: (312) 814-6028, Fax: (312) 814-8485, vbova@commerce.state.il.us

INDIANA

Frances Williams, State Budget Agency, 212 State House, Indianapolis, Indiana 46204-2796, Telephone: (317) 232-2972, Fax: (317) 233-3323, fwilliams@sba.state.in.us

IOWA

Steven R. McCann, Division of Community and Rural Development, Iowa Department of Economic Development, 200 East Grand Avenue, Des Moines, Iowa 50509, Telephone: (515) 242-4719, Fax: (515) 242-4809, steve.mccann@ided.state.ia.us

KENTUCKY

Ron Cook, Department of Local Government, Kentucky State Clearinghouse, 1024 Capital Center Drive, Suite 340, Frankfort, Kentucky 40601, Telephone: (502) 573-2382, Fax: (502) 573-0175, ron.cook@mail.state.ky.us

MAINE

Joyce Benson, State Planning Office, 184 State Street, 38 State House Station, Augusta, Maine 04333, Telephone: (207) 287-3261, (direct), Fax: (207) 287-6489, joyce.benson@state.me,us

MARYLAND

Linda Janey, Manager, State Clearinghouse and Plan Review Unit, Maryland Office of Planning, 301 West Preston Street-Room 1104, Baltimore, Maryland 21201-2305, Telephone: (410) 767-4490, Fax: (410) 767-4480, linda@mail.op.state.md.us

MICHIGAN

Richard Pfaff, Southeast Michigan Council of Governments, 660 Plaza Drive-Suite 1900, Detroit, Michigan 48226, Telephone: (313) 961-4266, Fax: (313) 961-4869, pfaff@semcog.org

MISSISSIPPI

Cathy Mallette, Clearinghouse Officer, Department of Finance and Administration, 550 High Street, 303 Walters Sillers Building, Jackson, Mississippi 39201-3087, Telephone: (601) 359-6762, Fax: (601) 359-6758

MISSOURI

Lois Pohl, Federal Assistance Clearinghouse, Office of Administration, P.O. Box 809, Jefferson Building, Room 915, Jefferson City, Missouri 65102, Telephone: (573) 751-4834, Fax: (573) 522-4395, pohll_@mail.oa.state.mo.us

NEVADA

Heather Elliot, Department of Administration, State Clearinghouse, 209 E. Musser Street, Room 200, Carson City, Nevada 89701, Telephone: (775) 684-0209, Fax: (775) 684-0260, helliott@govmail.state.nv.us

NEW HAMPSHIRE

Jeffrey H. Taylor, Director, New Hampshire Office of State Planning, Attn: Intergovernmental Review Process, Mike Blake, 2½ Beacon Street, Concord, New Hampshire 03301, Telephone: (603) 271-2155, Fax: (603) 271-1728, jtaylor@osp.state.nh.us

NEW MEXICO

Ken Hughes, Local Government Division, Room 201 Bataan Memorial Building, Santa Fe, New Mexico 87503, Telephone: (505) 827-4370, Fax: (505) 827-4948, khughes@dfa.state.nm.us

NORTH CAROLINA

Jeanette Furney, Department of Administration, 1302 Mail Service Center, Raleigh, North Carolina 27699-1302, Telephone: (919) 807-2323, Fax: (919) 733-9571, jeanette.furney@ncmail.net

NORTH DAKOTA

Jim Boyd, Division of Community Services, 600 East Boulevard Ave, Dept. 105, Bismark, North Dakota 58505-0170, Telephone: (701) 328-2094, Fax: (701) 328-2308, jboyd@state.nd.us

RHODE ISLAND

Kevin Nelson, Department of Administration, Statewide Planning Program, One Capitol Hill, Providence Rhode Island 02908-5870, Telephone: (401) 222-2093, Fax: (401) 222-2083, knelson@doa.state.ri.us

SOUTH CAROLINA

Omeagia Burgess, Budget and Control Board, Office of State Budget, 1122 Ladies Street—12th Floor, Columbia, South Carolina 29201, Telephone: (803) 734-0494, Fax: (803) 734-0645, aburgess@budget.state.sc.us

TEXAS

Tom Adams, Governors Office, Director, Intergovernmental Coordination, P.O. Box 12428, Austin, Texas 78711, Telephone: (512) 436-1771, Fax: (512) 936-2681, tadams@governor.state.tx.us

UTAH

Carolyn Wright, Utah State Clearinghouse, Governor's Office of Planning and Budget, State Capitol—Room 114, Salt Lake City, Utah 84114, Telephone: (801) 538-1535, Fax: (801) 538-1547, cwright@gov.state.ut.us

WEST VIRGINIA

Fred Cutlip, Director, Community Development Division, West Virginia Development Office, Building #6, Room 553, Charleston, West Virginia 25305, Telephone: (304) 558-4010, Fax: (304) 558-3248, fcutlip@wvdo.org

WISCONSIN

Jeff Smith, Section Chief, Federal/State Relations, Wisconsin Department of Administration, 101 East Wilson Street—6th Floor, P.O. Box 7868, Madison, Wisconsin 53707, Telephone: (608) 266-0267, Fax: (608) 267-6931, jeffrey.smith@doa.state.wi.us

WYOMING

Sandy Ross, Department of Administration and Information, 2001 Capitol Avenue, Room 214, Cheyenne, WY 82002, Telephone: (307) 777-5492, Fax: (307) 777-3696, sross1;@missc.state.wy.us

GUAM

Director, Bureau of Budget and Management Research, Office of the Governor, P.O. Box 2950, Agana, Guam 96910, Telephone: 011-671-472-2285, Fax: 011-472-2825, jer@ns.gov.gu

PUERTO RICO

Norma Burgos/Jose E. Caro, Puerto Rico Planning Board, Federal Proposals Review Office, Minillas Government Center, P.O. Box 41119, San Juan, Puerto Rico 00940-1119, Telephone: (809) 727-4444, (809) 723-6190, Fax: (809) 724-3270

NORTH MARIANA ISLANDS

Ms. Jacoba T. Seman, Federal Programs Coordinator, Office of Management and Budget, Office of the Governor, Saipan, MP 96950, Telephone: (670) 664-2289, Fax: (670) 664-2272, omb.jseman@saipan.com

VIRGIN ISLANDS

Ira Mills, Director, Office of Management and Budget, #41 Norre Gade Emancipation Garden Station, Second Floor, Saint Thomas, Virgin Islands 00802, Telephone: (340) 774-0750, Fax: (340) 776-0069, lrmills@usvi.org

Changes to this list can be made only after OMB is notified by a State's officially designated representative. E-mail messages can be sent to grants@omb.epo.gov. If you prefer, you may send correspondence to the following postal address:

Attn: Grants Management, Office of Management and Budget, New Executive Office Building, Suite 6025, 725 17th Street, NW., Washington, DC 20503.

Certification Regarding Lobbying—Attachment H

The undesigned certifies, to the best of his or her knowledge and belief, that:

(1) No Federal appropriated funds have been paid or will be paid, by or on behalf of the undersigned, to any person for influencing or attempting to influence an officer or employee of an agency, a Member of Congress, an officer or employee of Congress, or an employee of a Member of Congress in connection with the awarding of any Federal contract, the making of any Federal grant, the making of any Federal loan, the entering into of any cooperative agreement, and the extension, continuation, renewal, amendment, or modification of any Federal contract, grant, loan, or cooperative agreement.

(2) If any funds other than Federal appropriated funds have been paid or will be paid to any person for influencing or attempting to influence an officer or employee of any agency, a Member of Congress, an officer or employee of Congress, or an employee of a Member of Congress in connection with this Federal contract, grant, loan, or cooperative agreement, the undersigned shall complete and submit Standard Form-LLL, “Disclosure Form to Report Lobbying,” in accordance with its instructions.

(3) The undersigned shall require that the language of this certification be included in the award documents for all subawards at all tiers (including subcontracts, subgrants, and contracts under grants, loans, and cooperative agreements) and that all subrecipients shall certify and disclose accordingly. This certification is a material representation of fact upon which reliance was placed when this transaction was made or entered into. Submission of this certification is a prerequisite for making or entering into this transaction imposed by section 1352, title 31, U.S. Code. Any person who fails to file the required certification shall be subject to a civil penalty of not less than $10,000 and not more than $100,000 for each such failure.

Statement for Loan Guarantees and Loan Insurance

The undersigned states, to the best of his or her knowledge and belief, that:

If any funds have been paid or will be paid to any person for influencing or attempting to influence an officer or employee of any agency, a Member of Congress, an officer or employee of Congress, or an employee of a Member of Congress in connection with this commitment providing for the United States to insure or guarantee a loan, the undersigned shall complete and submit Standard Form-LLL, “Disclosure Form to Report Lobbying,” in accordance with its instructions. Submission of this statement is a prerequisite for making or entering into this transaction imposed by section 1352, title 31, U.S. Code. Any person who fails to file the required statement shall be subject to a civil penalty of not less than $10,000 and not more than $100,000 for each such failure.

Signature

Title

Organization

BILLING CODE 4184-01-P

BILLING CODE 4184-01-C

Instructions for Completion of SF-LLL, Disclosure of Lobbying Activities

This disclosure form shall be completed by the reporting entity, whether subawardee or prime Federal recipient, at the initiation or receipt of a covered Federal action, or a material change to a previous filing, pursuant to title 31 U.S.C. section 1352. The filing of a form is required for each payment or agreement to make payment to any lobbying entity for influencing or attempting to influence an officer or employee of any agency, a Member of Congress, an officer or employee of Congress, or an employee of a Member of Congress in connection with a covered Federal action. Complete all items that apply for both the initial filing and material change report. Refer to the implementing guidance published by the Office of Management and Budget for additional information.

1. Identify the type of covered Federal action for which lobbying activity is and/or has been secured to influence the outcome of a covered Federal action.

2. Identify the status of the covered Federal action.

3. Identify the appropriate classification on this report. If this is a followup report caused by a material change to the information previously reported, enter the year and quarter in which the change occurred. Enter the date of the last previously submitted report by this reporting entity for this covered Federal action.

4. Enter the full name, address, city, State and zip code of the reporting entity. Include Congressional District, if known. Check the appropriate classification of the reporting entity that designates if it is, or expects to be, a prime or subaward recipient. Identify the tier of the subawardee, e.g., the first subawardee of the prime is the 1st tier. Subawards include but are not limited to subcontracts, subgrants and contract awards under grants.

5. If the organization filing the report in item 4 checks “Subawardee,” then enter the full name, address, city, State and zip code of the prime Federal recipient. Include Congressional District, if known.

6. Enter the name of the Federal agency making the award or loan commitment. Include at least one organizational level below agency name, if known. For example, Department of Transportation, United States Coast Guard.

7. Enter the Federal program name or description for the covered Federal action (item 1). If known, enter the full Catalog of Federal Domestic Assistance (CFDA) number for grants, cooperative agreements, loans, and loan commitments.

8. Enter the most appropriate Federal identifying number available for the Federal action identified in item 1 (e.g., Request for Proposal (RFP) number; Invitation for Bid (IFB) number; grant announcement number; the contract), grant, or loan award number; the application/proposal control number assigned by the Federal agency). Include prefixes, e.g., “RFP-DE-90-001.”

9. For a covered Federal action where there has been an award or loan commitment by the Federal agency, enter the Federal amount of the award/loan commitment for the prime entity identified in item 4 or 5.

10. (a) Enter the full name, address, city, State and zip code of the lobbying registrant under the Lobbying Disclosure Act of 1995 engaged by the reporting entity identified in item 4 to influence the covered Federal action.

(b) Enter the full names of the individual(s) performing services, and include full address if different from 10(a). Enter Last Name, First Name, and Middle Initial (MI).

11. The certifying official shall sign and date the form, print his/her name, title, and telephone number.

According to the Paperwork Reduction Act, as amended, no persons are required to respond to a collection of information unless it displays a valid OMB Control Number. The valid OMB control number for this information collection is OMB No. 0348-0046. Public reporting burden for this collection of information is estimated to average 10 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0046), Washington, DC 20503.

State Human Services Administrators—Attachment I

Indexed by State Name

A

Mr. Tony Petelos, Commissioner, Alabama State Department of Human Resources, 50 Ripley Street, Montgomery, AL 36130-4000, Phone: (334) 242-1160, FAX: (334) 242-0198

Ms. Karen Perdue, Commissioner, Alaska Department of Health and Social Services, P.O. Box 110601, Juneau, AK 99811-0601, Phone: (907) 465-3030, FAX: (907) 465-3068

Ms. Marie Ma'o, Director, American Samoa Department of Social Services, Pago Pago, AS 96799, Phone: 011 (684) 633-2969, FAX: 011 (684) 633-7449

Mr. John L. Clayton, Director, Arizona Department of Economic Security, P.O. Box 6123, Site Code 010A, Phoenix, AZ 85005, Phone: (602) 542-5678, FAX: (602) 542-5339

Mr. Kurt Knickrehm, Director, Arkansas Department of Human Services, P.O. Box 1437—Suite 329, Little Rock, AR 72203-1437, Phone: (501) 682-8650

C

Mr. Grantland Johnson, Secretary, California Health and Welfare Agency, 1600 Ninth Street, Room 460, Sacramento, CA 95814, Phone: (916) 654-3345, FAX: (916) 654-3343

Mrs. Marva Livingston Hammons, Executive Director, Colorado Department of Human Services, 1575 Sherman Street, 8th floor, Denver, CO 80203-1714, Phone: (303) 866-5096, FAX: (303) 866-4740

Ms. Patricia A. Wilson-Coker, Commissioner, Connecticut Department of Social Services, 25 Sigourney Street, Hartford, CT 06106, Phone: (860) 424-5008, FAX: (860) 424-4960

D

Dr. Gregg C. Sylvester, Secretary, Delaware Department of Health & Social Services, Herman M. Holloway Campus, Administration Building, 1st floor, 1901 N. DuPont Highway, New Castle, DE 19720, Phone: (302) 577-4500, FAX: (302) 577-4510

Mrs. Carolyn Graham, Director, D.C. Department of Human Services, East Building, Suite 801, 2700 Martin Luther King, Jr. Avenue, Washington, DC 20032-0247, Phone: (202) 279-6002, FAX: (202) 279-6014

F

Judge Kathleen Kearney, Secretary, Florida Department of Children and Families, Building 1, Room 202, 1317 Winewood Boulevard, Tallahassee, FL 32399-0700, Phone: (850) 487-1111, FAX: (850) 922-2993

Mr. Robert G. Brooks, Secretary, Florida Department of Health, Building 6, Room 306, 1317 Winewood Boulevard, Tallahassee, FL 32399-0700, Phone: (850) 487-2945, FAX: (850) 487-3729

G

Ms. Audrey W. Horne, Commissioner, Georgia Department of Human Resources, 2 Peach Tree Street, N.W., Suite 29-250, Atlanta, GA 30303, Phone: (404) 656-5680, FAX: (404) 651-8669

Mr. Dennis G. Rodriguez, Director, Guam Department of Public Health and Social Services, P.O. Box 2816, Agana, GU 96932, Phone: 011 (671) 734-7102, FAX: 011 (671) 734-5910

H

Ms. Susan Chandler, Director, Hawaii Department of Human Services, P.O. Box 339, Honolulu, HI 96809-0339, Phone: (808) 586-4997, FAX: (808) 586-4890

I

Mr. Karl B. Kurtz, Director, Idaho Department of Health and Welfare, P.O. Box 83720, Boise, ID 83720-0036, Phone: (208) 334-5500, FAX: (208) 334-6558

Ms. Linda Renee Baker, Secretary, Illinois Department of Human Services, Harris Building, 3rd floor, 100 South Grand Avenue, East, Springfield, IL 62762, Phone: (217) 557-1602, FAX: (217) 557-1647

Dr. Peter Sybinsky, Secretary, Indiana Family and Social Services Administration, 402 West Washington Street, Room W-461, Indianapolis, IN 46204, Phone: (317) 233-4690, FAX: (317) 233-4693

Ms. Jessie Rasmussen, Director, Iowa Department of Human Services, 5th floor, Hoover State Office Building, Des Moines, IA 50319, Phone: (515) 281-5452, FAX: (515) 281-4597

K

Ms. Janet Schalansky, Secretary, Kansas Department of Social and Rehabilitation Services, Docking State Office Building, 6th Floor, 915 Harrison Street, Topeka, KS 66612-1570, Phone: (913) 296-3271, FAX: (913) 296-4685

Ms. Viola P. Miller, Secretary, Kentucky Cabinet for Families and Children, 275 East Main Street, 4th floor West, Frankfort, KY 40621, Phone: (502) 564-7130, FAX: (502) 564-3866

L

Mrs. J. Renea Austin-Duffin, Secretary, Louisiana Department of Social Services, P.O. Box 3776, Baton Rouge, LA 70821, Phone: (504) 342-0286, FAX: (504) 342-8636

M

Mr. Kevin W. Concannon, Commissioner, Maine Department of Human Services, 11 Statehouse Station, 2100 State Street, Augusta, ME 04333, Phone: (207) 287-2736, FAX: (207) 287-3005

Ms. Lynda G. Fox, Secretary, Maryland Department of Human Resources, Saratoga State Center, 311 West Saratoga Street, Baltimore, MD 21201, Phone: (410) 767-7109, FAX: (410) 333-0099

Mr. William O'Leary, Commissioner, Massachusetts Department of Social Services, 24 Farnsworth Street, Boston, MA 02210, Phone: (617) 727-0900, FAX: (617) 439-4482

Mr. Douglas Howard, Director, Michigan Family Independence Agency, 235 South Grand Avenue, Lansing, MI 48909, Phone: (517) 373-2000, FAX: (517) 335-6101

Mr. Michael O'Keefe, Commissioner, Minnesota Department of Human Services, 444 Lafayette Road, St. Paul, MN 55155-3815, Phone: (612) 296-2701, FAX: (612) 296-5868

Ms. Bettye Ward Fletcher, Ph.D., Executive Director, Mississippi Department of Human Services, 750 North State Street, Jackson, MS 39202, Phone: (601) 359-4480, FAX: (601) 359-4477

Mr. Gary J. Stangler, Director, Missouri Department of Social Services, Broadway State Office Building, 221 W. High Street, Jefferson City, MO 65102, Phone: (573) 751-4815, FAX: (573) 751-3203

Ms. Laurie Ekanger, Director, Montana Department of Public Health and Human Services, P.O. Box 4210, Helena, MT 59604-4210, Phone: (406) 444-5622, FAX: (406) 444-1970

N

Mr. Ron Ross, Director, Nebraska Department of Health and Human Services, P.O. Box 59604, Lincoln, NE 68509-5044, Phone: (402) 471-9106, FAX: (402) 471-0820

Ms. Charlotte Crawford, Director, Nevada Department of Human Resources, 505 East King Street, Suite 600, Carson City, NV 89710, Phone: (702) 687-4400, FAX: (702) 687-4733

Mr. Donald L. Shumway, Commissioner, New Hampshire Department of Health and Human Services, 6 Hazen Drive, Concord, NH 03301, Phone: (603) 271-4331, FAX: (603) 271-4912

Ms. Michelle Guhl, Commissioner, New Jersey Department of Human Services, P.O. Box 700, Trenton, NJ 08625-0700, Phone: (609) 292-3717, FAX: (609) 292-3824

Ms. Robin Dozier Otten, Deputy Secretary, New Mexico Human Services Dept., P.O. Box 2348, Santa Fe, NM 87504-2348, Phone: (505) 827- 7750, FAX: (505) 827-6286

Mr. Brian Wing, Commissioner, New York State Office of Temporary and Disability Assistance, 40 North Pearl Street, Albany, NY 12243, Phone: (518) 474-9475, FAX: (518) 486-6255

Mr. John A. Johnson, Commissioner, New York State Office of Children and Family Services, 52 Washington Street, Rensselaer, NY 12144, Phone: (518) 473-8437, FAX: (518) 473-9131

Dr. H. David Bruton, Secretary, North Carolina Department of Heath and Human Services, 101 Blair Drive, Raleigh, NC 27626, Phone: (919) 733-4534, FAX: (919) 715-4645

Ms. Carol K. Olson, Executive Director, North Dakota department of Human Services, State Capitol—Judicial Wing, 600 East Boulevard, Bismarck, ND 58505, Phone: (701) 328-2310, FAX: (701) 328-1545

O

Ms. Jacqueline Romer-Sensky, Director, Ohio Department of Human Services, 30 East Broad Street, 32nd Floor, Columbus, OH 43266-0423, Phone: (614) 466-6282, FAX: (614) 466-2815

Mr. Howard A. Hendrick, Director, Oklahoma Department of Human Services, P.O. Box 25352, Oklahoma City, OK 73125-0352, Phone: (405) 521-3646, FAX: (405) 521-6458

Mr. Gary Weeks, Director, Oregon Department of Human Resources, 500 Summer Street, N.E., Salem, OR 97310-1012, Phone: (503) 945-5944, FAX: (503) 378-2897

P

Ms. Feather O. Houstoun, Secretary, Pennsylvania Department of Public Welfare, P.O. Box 2675, Harrisburg, PA 17105-2675, Phone: (717) 787-2600, FAX: (717) 772-2062

Ms. Angie Varela-Llavona, Secretary, Puerto Rico Department of The Family, P.O. Box 11398, San Juan, PR 00910-1398, Phone: (787) 725-4511, FAX: (787) 723-1223

R

Ms. Christine Ferguson, Director, Rhode Island Department of Human Services, 600 New London Avenue, Cranston, RI 02920, Phone: (401) 464-2121, FAX: (401) 464-3677

S

Elizabeth G. Patterson, Director, South Carolina Department of Social Services, P.O. Box 1520, Columbia, SC 29202-1520, Phone: (803) 898-7360, FAX: (803) 898-7276

Mr. John Jones, Secretary, South Dakota Department of Human Services, Hillsview Plaza, East Highway 34, Pierre, SD 57501, Phone: (605) 773-5990, FAX: (605) 773-5483

T

Ms. Natsha Metcalf, Commissioner, Tennessee Department of Human Services, Citizens Plaza Building, 15th Floor, 400 Deaderick Street, Nashville, TN 37248-0200, Phone: (615) 313-4700, FAX: (615) 741-4165

Mr. Eric M. Bost, Commissioner, Texas Department of Human Services, P.O. Box 149030, Mail Code W-619, Austin, TX 78714-9030, Phone: (512) 438-3030, FAX: (512) 438-4220

Ms. Diane D. Rath, Chair and Commissioner Representing the Public, Texas Work Force Commission, 101 East 15th Street, Austin, TX 78778, Phone: (512) 463-2800, FAX: (512) 463-1289

U

Mrs. Robin Arnold-Williams, Executive Director, Utah Department of Human Services, 120 North 200 West, Room 319, Salt Lake City, UT 84114-0250, Phone: (801) 538-3998, FAX: (801) 538-4016

Mr. Robert C. Gross, Executive Director, Utah Department of Workforce Services, 140 E. 300 South, Salt Lake City, UT 84103, Phone: (801) 526-9210, FAX: (801) 526-9211

V

Ms. M. Jane Kitchel, Secretary, Vermont Agency of Human Services, 103 South Main Street, Waterbury, VT 05671-0204, Phone: (802) 241-2220, FAX: (802) 241-2979

Ms. Sedonia Halbert, Acting Commissioner, Virgin Islands Department of Human Services, Knud Hansen Complex Building A, 1303 Hospital Grounds, St. Thomas, VI 00802, Phone: (304) 774-0930, FAX: (304) 774-3466

Ms. Sonia Rivero, Commissioner, Virginia Department of Social Services, 730 East Broad Street, 9th floor, Richmond, VA 23219-1849, Phone: (804) 692-1900, FAX: (804) 692-1964

W

Mr. Lyle Quasim (retires 6/30), Secretary, Washington Department of Social and Health Services, 115 Washington Street, SE, Olympia, WA 98504-5010, Phone: (360) 902-7800, FAX: (360) 902-7848

Ms. Joan E. Ohl, Secretary, West Virginia Department of Health and Human Resources, State Capitol Complex Building 3, Room 206, 1900 Kanawha Boulevard, East, Charleston, WV 25305-0500, Phone: (304) 558-0684, FAX: (304) 559-1130

Mr. Joseph Leean, Secretary, Wisconsin Department of Health and Family Services, P.O. Box 7850, Madison, WI 53707-7850, Phone: (608) 266-9622, FAX: (608) 266-7882

Ms. Keri Jo Gray, Director, Wyoming Department of Family Services, Hathaway Building, 3rd floor, 2300 Capitol Avenue, Cheyenne, WY 82002-0490, Phone: (307) 777-7561, FAX: (307) 777-7747

Certification Regarding Environmental Tobacco Smoke—Attachment J

Public Law 103227, Part C Environmental Tobacco Smoke, also known as the Pro Children Act of 1994, requires that smoking not be permitted in any portion of any indoor routinely owned or leased or contracted for by an entity and used routinely or regularly for provision of health, day care, education, or library services to children under the age of 18, if the services are funded by Federal programs either directly or through State or local governments, by Federal grant, contract, loan, or loan guarantee. The law does not apply to children's services provided in private residences, facilities funded solely by Medicare or Medicaid funds, and portions of facilities used for inpatient drug or alcohol treatment. Failure to comply with the provisions of the law may result in the imposition of a civil monetary penalty of up to $1000 per day and/or the imposition of an administrative compliance order on the responsible entity. By signing and submitting this application the applicant/grantee certifies that it will comply with the requirements of the Act.

The applicant/grantee further agrees that it will require the language of this certification be included in any subawards which contain provisions for the children's services and that all subgrantees shall certify accordingly.

DHHS Regulations Applying to All Applicants/Grantees Under the Job Opportunities for Low-Income Individuals (JOLI) Program—Attachment K

Title 45 of the Code of Federal Regulations:

Part 16—Department of Grant Appeals Process

Part 74—Administration of Grants (grants and subgrants to entities)

Part 75—Informal Grant Appeal Procedures

Part 76—Debarment and Suspension from Eligibility for Financial Assistance

SUBPART F—DRUG FREE WORKPLACE REQUIREMENTS

Part 80—Non-Discrimination Under Programs Receiving Federal Assistance through the Department of Health and Human Services Effectuation of Title VI of the Civil Rights Act of 1964

Part 81—Practice and Procedures for Hearings Under Part 80 of this Title

Part 83—Regulation for the Administration and Enforcement of Sections 799A and 845 of the Public Health Service Act

Part 84—Non-discrimination on the Basis of Handicap in Programs and Activities Receiving Federal Financial Assistance

Part 85—Enforcement of Non-Discrimination on the Basis of Handicap in Programs or Activities Conducted by the Department of Heath and Human Services

Part 86—Nondiscrimination on the Basis of Sex in Education Programs and Activities Receiving or Benefiting from Federal Financial Assistance

Part 91—Non-discrimination on the Basis of Age in Health and Human Services Programs or Activities Receiving Federal Financial Assistance

Part 92—Uniform Administrative Requirements for Grants and Cooperative Agreements to States and Local Governments (Federal Register, March 11, 1988)

Part 93—New Restrictions on Lobbying

Part 100—Intergovernmental Review of Department of Health and Human Services Programs and Activities

Business Plan—Attachment L

The business plan is one of the major components that will be evaluated by OCS to determine the feasibility of a jobs creation project. A business plan must be included if, the applicant is proposing to establish a new identified business, of if the applicant will be providing assistance to a private third party employer for the development or expansion of a pre-identified business.

The following guidelines were written to cover a variety of possibilities regarding the requirements of a business plan. Rigid adherence to them is not possible nor even desirable for all projects. For example, a business plan for a service business would not require discussion of manufacturing nor product designs. Therefore, the business plans should be prepared in accordance with the following guidelines:

1. The business and its industry. This section should describe the nature and history of the business and include background on its industry.

a. The Business: as a legal entity; the general business category;

b. Description and Discussion of Industry: Current status and prospects for the industry.

2. Products and Services: This section deals with the following:

a. Description: Describe in detail the products or services to be sold;

b. Proprietary Position: Describe proprietary features, if any, of the product, e.g., patents, trade secrets; and,

c. Potential: Features of the product or service that may give it an advantage over the competition.

3. Market Research and Evaluation: This section should present sufficient information to show that the product or service has a substantial market and can achieve sales in the face of competition;

a. Customers: Describe the actual and potential purchasers for the product or service by market segment;

b. Market Size and Trends: State the size of the current total market for the product or service offered;

c. Competition: An assessment of the strengths and weaknesses of competitive products and services; and

d. Estimated Market Share and Sales: Describe the characteristics of the product or service that will make it competitive in the current market.

4. Marketing Plan: The marketing plan must describe what is to be done, how it will be done and who will do it. The marketing plan should detail the product, pricing, distribution, and promotion strategies that will be used to achieve the estimated market share and sales projections. The plan should address the following topics—Overall Marketing Strategy, Packaging, Service and Warranty, Pricing, Distribution and Promotion.

5. Design and Development Plans: This section of the plan should cover items such as Development Status, Tasks, Difficulties and Risks, Product Improvement, New Products and Costs. If the product, process or service of the proposed venture requires any design and development before it is ready to be placed on the market, the nature and extent and cost of this work should be fully discussed.

6. Manufacturing and Operations Plan: A manufacturing and operations plan should describe the kind of facilities, plant location, space, capital equipment and labor force (part and/or full time and wage structure) that are required to provide the company's product or service.

7. Management Team: This section must include a description of: the key management personnel and their primary duties; compensation and/or ownership; the organizational structure; Board of Directors; management assistance and training needs; and supporting professional services. The management team is key in starting and operating a successful business. The management team should be committed with a proper balance of technical, managerial and business skills, and experience in operating the proposed business.

8. Overall Schedule: This section must include a month-by-month schedule that shows the timing of such major events, activities and accomplishments involving product development, market planning, sales programs, and production and operations. Sufficient detail should be included to show the correlation between the timing of the primary tasks required to accomplish each activity.

9. Critical Risks and Assumptions: This section should include a description of the risks and critical assumptions/problems relating to the industry, the venture, its personnel, the product's market appeal, and the timing and financing of the venture. Identify and discuss the critical assumptions/problems to overcome in the business Plan. Major problems must clearly identify problems to be solved to develop the venture.

10. Community Benefits: The applicant should describe how the proposed project will contribute to the local economy, community and human economic development within the projects target area.

11. The Financial Plan: The Financial Plan is basic to the development of a Business Plan. Its purpose is to indicate the project's potential and the timetable for financial self-sufficiency of the business. In developing the Financial Plan, the following exhibits must be prepared for the first three years of the business' operation:

a. Profit and Loss Forecasts-quarterly for each year;

b. Cash Flow Projections-quarterly for each year;

c. Pro forma balance sheets-quarterly for each year;

d. Initial sources of project funds;

e. Initial uses of project funds; and

f. Any future capital requirements and sources.

12. Facilities: If rearrangement or alteration of existing facilities is required to implement the project, the applicant must describe and justify such changes and related costs.

BILLING CODE 4184-01-P

BILLING CODE 4184-01-C

OCSE IV-D Report

ALABAMA

Carolyn Lapsley, Director, Department of Human Resources, Division of Child Support, 50 Ripley Street Road, Montgomery, AL 36130-1801, IVD Director's Phone: (334) 242-9300 IVD Director's Fax: (334) 242-0606, In State Office Phone: 1-800-284-4347 (334) 242-9300, Nationwide Office Phone: Office Fax: (334-242-0606, E-Mail: clapsley@dhr.state.al.us

ALASKA

Barbara Miklos, Director, Child Support Enforcement Division,550 West 7th Avenue, Suite 312, Anchorage, AK 99501-6699, IVD Director's Phone: (907) 269-6804 IVD Director's Fax: (907) 269-6868, In State Office Phone: (800) 478-3300 (907) 269-6813, Nationwide Office Phone: Office Fax: (907) 269-6813, E-Mail: Barbara Miklos@revenue.state.ak.us

AMERICAN SAMOA

Fainuulelei L Ala'ilima-Uta, Assistant Attorney General, Office of the Attorney General, P.O. Box 7, Pago Pago, AS 96799,IVD Director's Phone: (684) 633-7161 or 633-4163 IVD Director's Fax: (684) 633-1838, In State Office Phone: Nationwide Office Phone: Office Fax:

ARIZONA

Leona Hodges, Acting Director,Department of Economic Security, Division of Child Support Enforcement, P.O. Box 40458, Site Code 021A, (Street Address: 3443 N. Central Avenue, 4th Floor, Phoenix, AZ 85012), Phoenix, AZ 85067,IVD Director's Phone: (602) 274-7646 IVD Director's Fax: (602) 274-8250, In State Office Phone: (602) 252-4045, Nationwide Office Phone: Office Fax: E-Mail: volh9834@de.state.az.us

ARKANSAS

Dan Mc Donald, Administrator, Office of Child Support Enforcement, Division of Revenue, P.O. Box 8133, (712 W. 3rd Street ZIP 72201), Little Rock, AR 72203, IVD Director's Phone: (501) 682-6169 IVD Director's Fax: (501) 682-6002, In State Office Phone: (501) 682-8398, Nationwide Office Phone: (800) 264-2445 (payments) (800) 247-4549 (program), Office Fax: (501) 682-6002, E-Mail: dan.mcdonald@mail.state.ar.us

CALIFORNIA

Curtis L Child, Director, Califoornia Dept. of Child Support Svcs., P.O. Box 138006,Sacramento, CA 95814, IVD Director's Phone: (916) 654-6395 IVD Director's Fax: (916) 653-8627, In State Office Phone: (916) 654-1532 (800) 952-5253, Nationwide Office Phone: Office Fax: (916) 657-3791, E-Mail: curtis.child@dss.ca.gov

COLORADO

Pauline Burton, Director, Department of Human Services, Division of Child Support Enforcement, 1575 Sherman Street, 2nd floor, Denver, CO 80203-1714, IVD Director's Phone: (303) 839-1203 IVD Director's Fax: (303) 839-1332, In State Office Phone: (303) 839-5994, Nationwide Office Phone: (303) 866-2214, E-Mail: Pauline.Burton@state.co.us

CONNECTICUT

Diane Fray, Director, Department of Social Services, Bureau of Child Support Enforcement, 25 Sigourney Street, Hartford, CT 06105-5033, IVD Director's Phone: (860) 424-5251 IVD Director's Fax: (860) 951-2996, In State Office Phone: (860) 424-5251, Nationwide Office Phone: (800) 228-5437 (problems) (800) 647-8872 (info) (800) 698-0572 (payments), Office Fax: (860) 951-2996, E-Mail: Diane.Fray@po.state.ct.us

DELAWARE

Karryl D Hubbard, Director, Department of Health and Social Services, Division of Child Support Enforcement, Herman Hallaway Campus (street addr: 1901 North Dupont Hwy), P.O. Box 904, New Castle, DE 19720, IVD Director's Phone: (302) 577-4807 IVD Director's Fax: (302) 577-4873, In State Office Phone: (302) 577-4863, (302) 577-4800, Nationwide Office Phone:, Office Fax: (302) 577-4873, E-Mail: Khubbard@state.de.us

DISTRICT OF COLUMBIA

Phil Browning, Director, Office of Corporation Counsel, Child Support Enforcement, 441 Fourth Street NW 5th Floor, Washington, DC 20001, IVD Director's Phone: (202) 724-2131 IVD Director's Fax: (202) 724-3710, In State Office Phone: (202) 724-1444, Nationwide Office Phone:, Office Fax:, E-Mail: DCIVD Browning@hotmail.com

FLORIDA

Lillie Bogan, Program Director, Department of Revenue, Child Support Enforcement Program, P.O. Box 8030, Tallahassee, FL 32314-8030, IVD Director's Phone: (850) 488-8733 IVD Director's Fax: (850) 921-0792, In State Office Phone: (850) 922-9590, Office Fax: (850) 414-1698, E-Mail: boganl@dor.state.fl.us

GEORGIA

Martin D “Dan” Elmore, Director CSE, Department of Human Resources, Child Support Enforcement, P.O. Box 38450, (2 Peachtreee Street, N.W., Suite 15-107, Zip 30303), Atlanta, GA 30334-0450, IVD Director's Phone: (404) 657-3851/3856 IVD Director's Fax: (404) 657-3326, In State Office Phone: (404) 657-3851 (800) 227-7993 (for area codes 706 and 912) (for 404 and 770 dial c, Nationwide Office Phone:, Office Fax: (404) 657-3326, E-Mail: mdelmore@dhr.state.ga.us

GUAM

Kathleen E Maher, Deputy Attorney General, Department of Law, Child Support Enforcement Unit, 238 Archbishop F. C. Flores Street, Agana, GU 96910, IVD Director's Phone: (671) 475-3360/3363 IVD Director's Fax: (617) 477-6118, In State Office Phone: 011 (671) 475-3360, Nationwide Office Phone:, Office Fax:, E-Mail: KathyMaher@Hotmail.com

HAWAII

Mike L Meaney, Administrator, Department of Attorney General, Child Support Enforcement Agency, Kakuhihewa State Office Building, Kapolei, HI 96707, IVD Director's Phone: (808) 692-7000 IVD Director's Fax: (808) 692-7134, In State Office Phone: (808) 587-3695, Nationwide Office Phone:, Office Fax:, E-Mail: csea-adm@pixi.com

IDAHO

Tamara Prisock, Child Supt Proj Mgr, Department of Health and Welfare, Bureau of Child Support Services, P.O. Box 83720, (450 West State Street, 6th Floor Zip 83702), Boise, ID 83720-0036, IVD Director's Phone: (208) 334-5719 IVD Director's Fax: (208) 334-5817, In State Office Phone: (208) 334-2479, Nationwide Office Phone: (800) 356-9868, Office Fax: (208) 334-0666, E-Mail: Prisockt@idhw.state.id.us

ILLINOIS

Robert Lyons, Administrator, Illinois Department of Public Aid, Division of Child Support Enforcement, 32 W. Randolph Street, Rm 923, Chicago, IL 60601, IVD Director's Phone: (217) 524-4602 IVD Director's Fax: (217) 524-4608, In State Office Phone: (217) 524-4602 (800) 447-4278, Nationwide Office Phone:, Office Fax: (217) 524-4608, E-Mail: AIDD5107@DPA084R2.state.il.us

INDIANA

Joe Mamlin, Director, Child Support Bureau, 402 West Washington Street, Rm W360, Indianapolis, IN 46204, IVD Director's Phone: (317) 232-4877 IVD Director's Fax: (317) 233-4925, In State Office Phone: (317) 223-5437, Nationwide Office Phone:, Office Fax: (317) 233-4932, E-Mail: jmamlin@fssa.state.in.us

IOWA

Nancy Thoma, Chief, Department of Human Services, Bureau of Collections, Hoover Building—5th Floor, Des Moines, IA 50309, IVD Director's Phone: (515) 281-8886 IVD Director's Fax: (515) 281-8854, In State Office Phone: (515) 281-5580, Nationwide Office Phone:, Office Fax: (515) 281-8854, E-Mail: nthoma@dhs.state.ia.us

KANSAS

James A Robertson, IV-D Director, Department of Social & Rehabilitation Services, Child Support Enforcement Program, P.O. Box 497, (Street Address: 300 S.W. Oakley Street, Biddle Bldg, Topeka, KS 66606), Topeka, KS 66601, IVD Director's Phone: (785) 296-3237 IVD Director's Fax: (785) 296-5206, In State Office Phone: (913) 296-3237, Nationwide Office Phone: (800) 432-0152 (withholding) (800) 570-6743 (collections) (800) 432-3913 (fraud hot), Office Fax: (913) 296-5206, E-Mail: jaxr@srskansas.org

KENTUCKY

Steven P Veno, Director, Cabinet for Human Resources, Division of Child Support Enforcement, 275 East Main Street, Frankfort, KY 40621, IVD Director's Phone: (502) 564-2285 ex 404 IVD Director's Fax: (502) 564-5988, In State Office Phone: (502) 564-2285, Nationwide Office Phone:, Office Fax: (502) 564-5988, E-Mail: steven.veno@mail.state.ky.us

LOUISIANA

Gordon Hood, Director, Support Enforcement Services, Office of Family Support, P.O. Box 94065, Baton Rouge, LA 70804-4065, IVD Director's Phone: (225) 342-4780 IVD Director's Fax: (225) 342-7397, In State Office Phone: (225) 342-4780 (800) 256-4650 (payments), Nationwide Office Phone:, Office Fax: (504) 342-7397, E-Mail: ghood@dss.state.la.us

MAINE

Stephen L Hussey, Director, Dept of Human Services, Bureau of Family Independence, Div of Support Enforcement and Recovery, State House Station, Augusta, ME 04333, IVD Director's Phone: (207) 287-2886 IVD Director's Fax: (207) 287-5096, In State Office Phone: (207) 287-2886 (800) 371-3101, Nationwide Office Phone:, Office Fax: (207) 287-2886, E-Mail: stephen.L.hussey@state.me.us

MARYLAND

Theresa Kaiser, Executive Director, Child Support Enforcement Administration, 311 West Saratoga Street, Baltimore, MD 21201, IVD Director's Phone: (410) 767-7674 or 7358 IVD Director's Fax: (410) 333-8992, In State Office Phone: (410) 767-7619 (800) 332-6347, Nationwide Office Phone:, Office Fax: (410) 333-8992, E-Mail: TKaiser@csea.dhr.state.md.us

MASSACHUSETTS

Rosemarie Day, Deputy Commissioner, Department of Revenue, Child Support Enforcement Division, 141 Portland Street, Cambridge, MA 02139-1937, IVD Director's Phone: (617) 577-7200 ex 30482 or 30405 IVD Director's Fax: (617) 621-4991, In State Office Phone: (617) 577-7200, Nationwide Office Phone: (800) 332-2733, Office Fax: (617) 621-4991, E-Mail: dayr@dor.state.ma.us

MICHIGAN

Wallace Dutkowski, Director, Family Independency Agency, Office of Child Support, P.O. Box 30478, (Street Address: 7109 W. Saginaw Hwy., Lansing, MI), Lansing, MI 48909-7978, IVD Director's Phone: (517) 373-7570 IVD Director's Fax: (517) 373-4980, In State Office Phone: (517) 373-7570, Nationwide Office Phone:, Office Fax: (517) 373-4980, E-Mail: dutkowskiw@state.mi.us

MINNESOTA

Laura Kadwell, Director, Department of Human Services, Office of Child Support Enforcement, 444 Lafayette Road, 4th floor, St Paul, MN 55155-3846, IVD Director's Phone: (651) 297-8232 IVD Director's Fax: (651) 297-4450, In State Office Phone: (651) 296-2542, Nationwide Office Phone:, Office Fax: (651) 297-4450, E-Mail: laura.kadwell@state.mn.us

MISSISSIPPI

Alsee McDaniel, Acting Director, Department of Human Services, Division of Child Support Enforcement, P.O. Box 352, Jackson, MS 39205, IVD Director's Phone: (601) 359-4863 IVD Director's Fax: (601) 359-4415, In State Office Phone: (601) 359-4861 (800) 354-6039 (Hines, Rankin, and Madison counties), Nationwide Office Phone: (800) 434-5437, Office Fax: (601) 359-4415, E-Mail: amcdaniel@mdhs.state.ms.us

MISSOURI

Lynn Fallen, Acting Director, Department of Social Services, Division of Child Support Enforcement, P.O. Box 2320, (227 Metro Drive), Jefferson City, MO 65101-2320, IVD Director's Phone: (573) 751-1374 IVD Director's Fax: (573) 751-8450, In State Office Phone: (573) 751-4301, Nationwide Office Phone: (800) 859-7999, Office Fax: (573) 751-8450, E-Mail: bbecker@mail.state.mo.us

MONTANA

Mary Ann Wellbank, Administrator, Department of Social and Rehabilitation Services, Child Support Enforcement Division, P.O. Box 202943, (Street Address: 3075 N. Montana Ave., Suite 112, Helena, MT 59620), Helena, MT 59620, IVD Director's Phone: (406) 444-3338 IVD Director's Fax: (406) 444-1370, In State Office Phone:, (406) 442-7278 (800) 346-5437, Nationwide Office Phone: Office Fax: (406) 444-1370, E-Mail: mwellbank@state.mt.us

NEBRASKA

Daryl D Wusk, CSE Administrator, Department of Health and Human Services, Child Support Enforcement Office, P.O. Box 94728, West Campus Folsom and West Prospector Place, Lincoln, NE 68509-4728, IVD Director's Phone: (402) 479-5555 IVD Director's Fax: (402) 479-5543, In State Office Phone: (402) 471-9160 (800) 831-4573, Nationwide Office Phone:, Office Fax: (402) 471-9455, E-Mail: Daryl. Wusk@hhss.state.ne.us

NEVADA

Leland Sullivan, Chief, Child Support Enforcement Program, Nevada State Welfare Division, 2527 North Carson Street, Capitol Complex, Carson City, NV 89716, IVD Director's Phone: (775) 687-4744 IVD Director's Fax: (775) 684-8026, In State Office Phone: (775) 687-4744 (800) 922-0900, Nationwide Office Phone:, Office Fax: (775) 684-6026, E-Mail: lsulliva@govmail.state.nv.us

NEW HAMPSHIRE

Lloyd Peterson, Director, Office of Program Support, Office of Child Support, Health and Human Services Building, 6 Hazen Drive, Concord, NH 03301, IVD Director's Phone: (603) 271-4287 IVD Director's Fax: (603) 271-4787, In State Office Phone: (603) 271-4427 (800) 852-3345 ext 4427, Nationwide Office Phone:, Office Fax: (603) 271-4787, E-Mail: lpeterso@dhhs.state.nh.us

NEW JERSEY

Alisha Griffin, Director, Department of Human Services, Bureau of Child Support and Paternity Programs, Division of Family Dev, P.O. Box 716, Trenton, NJ 08625-0716, IVD Director's Phone: (609) 588-2402 IVD Director's Fax: (609) 588-3369, In State Office Phone: (609) 588-2915, Nationwide Office Phone: (800) 621-5437, Office Fax: (609) 588-2354, E-Mail: agrifin@dhs.state.nj.us

NEW MEXICO

Ben Silva, Director, Department: Human Services Department, Child Support Enforcement Bureau, P.O. Box 25109, (Street Address: 2025 S. Pacheco, Santa Fe, NM 87504), Santa Fe, MN 73512, IVD Director's Phone: (505) 827-7200 IVD Director's Fax: (505) 827-7285, In State Office Phone: (505) 827-7200 (800) 432-6217, Nationwide Office Phone:, Office Fax: (505) 827-7285, E-Mail: myrna.vigil@state.nm.us

NEW YORK

Margot Bean, Director, Acting, Office of Child Support Enforcement, Office of Temporary Assistance, (Street Address: One Commerce Plaza, Albany, NY 12260), Albany, NY 12243-0001), IVD Director's Phone: (518) 474-9081 IVD Director's Fax: (518) 486-3127, In State Office Phone: (518) 474-9081, Nationwide Office Phone: (800) 343-8859, Office Fax: (518) 486-3127, E-Mail: margot.bean@dfa.state.ny.us

NORTH CAROLINA

Barry A. Miller, Chief, Department of Human Resources, Division of Social Services, Child Support Enforcement Section, 100 East Six Forks Road, Raeligh, NC 27609-7750, IVD Director's Phone: (919) 420-7982 IVD Director's Fax: (919) 571-4126, In State Office Phone: (919) 571-4114 (800) 992-9457, Nationwide Office Phone:, Office Fax: (919) 571-4126, E-Mail: barry.miller@ncmail.net

NORTH DAKOTA

Mike Schwindt, Director, Department of Human Services, Child Support Enforcement Agency, P.O. Box 7190, (Street Address: 1929 North Washington Street, Bismarch, ND 58507-7190), Bismarch, ND 58507-7190, IVD Director's Phone: (701) 328-3582 or 5493 IVD Director's Fax: (701) 328-6575, In State Office Phone: (701) 328-3582 (800) 755-8530, Nationwide Office Phone:, Office Fax: (701) 328-5497, E-Mail: soschm@state.nd.us

OHIO

Judith A Cowell, Director, Department of Human Services, Office of Child Support Enforcement, 30 East Broad Street, 31st Floor, Columbus, OH 43266-0423, IVD Director's Phone: (614) 752-6561 IVD Director's Fax: (614) 752-9760, In State Office Phone: (614) 752-6561 (800) 686-1556, Nationwide Office Phone:, Office Fax: (614) 752-9760, E-Mail: CowellJ@odhs.state.oh.us

OKLAHOMA

Ray Weaver, Administrator, Department of Human Services, Child Support Enforcement Division, P.O. Box 53552, (Street Address: 2409 N. Kelley Avenue, Annex Building, Oklahoma City, OK 73152, Oklahoma City, OK 73152, IVD Director's Phone: (405) 552-5871 IVD Director's Fax: (405) 522-2753, In State Office Phone: (405) 552-5871, Nationwide Office Phone: (800) 522-2922, Office Fax: (405) 522-2753, E-Mail: pamela.webster@okdhs.org

OREGON

Kevin Aguire, IV-D Director, Department of Human Resources, Adult and Family Services Division, Oregon Child Support Program, 500 Summer St. NE, Salem, OR 97310-1013, IVD Director's Phone: (503) 945-5600 IVD Director's Fax: (503) 373-7492, In State Office Phone: (503) 378-5567 (800) 850-0288 (800) 850-9294 (rotary), Nationwide Office Phone:, Office Fax: 503) 391-5526, E-Mail: kevin.agurre@state.or.us

PENNSYLVANIA

Daniel Richard, Director, Department of Public Welfare, Bureau of Child Support Enforcement, P.O. Box 8018, (Street Address: 1303 North Seventh St., 17102 Commerce Bldg., 12th Floor, Harri), Harrisburg, PA 17105, IVD Director's Phone: (717) 783-5441 IVD Director's Fax: (717) 772-4926, In State Office Phone: (717) 787-3672, Nationwide Office Phone: (800) 932-0211, Office Fax: (717) 787-9706, E-Mail: danielr@dpw.state.pa.us

PUERTO RICO

Miguel A Verdiales, Administrator, Department of Social Services, Administration for Child Support, P.O. Box 9023349, San Juan, PR 00902-3349, IVD Director's Phone: (787) 767-1886 IVD Director's Fax: (787) 282-8324, In State Office Phone: (787) 767-1500, Nationwide Office Phone:, Office Fax: (787) 723-6187, E-Mail: mverdiales@asume.prstar.net

RHODE ISLAND

John F Murphy, Administrator, Department of Administration, Division of Child Support Enforcement, 77 Dorrance Street, Providence, RI 02903, IVD Director's Phone: (401) 222-2847 IVD Director's Fax: (401) 222-2887, In State Office Phone: (401) 277-2847 (800) 922-0536, Nationwide Office Phone:, Office Fax: (401) 277-6674, E-Mail: MurphyJF@tax.state.ri.us

SOUTH CAROLINA

Larry J McKeown, Director, Department of Social Services, Child Support Enforcement Division, P.O. Box 1469, (Street Address: 3150 Harden Street, Columbia, SC 29202-1469) Columbia, SC 29202-1469, IVD Director's Phone: (803) 737-5870 IVD Director's Fax: (803) 737-6032, In State Office Phone: (803) 737-5875 (800) 768-6779 (payments), Nationwide Office Phone: (800) 768-5858, Office Fax: (803) 737-6032, E-Mail: lmckeown@dss.state.sc.us

SOUTH DAKOTA

Terry Walter, Program Administrator, Department of Social Services, Office of Child Support Enforcement, 700 Governor's Drive, Suite 84, Pierre, SD 57501-2291, IVD Director's Phone: (605) 773-3641 IVD Director's Fax: (605) 773-5246, In State Office Phone: (605) 773-3641, Nationwide Office Phone:, Office Fax: (605) 773-5246, E-Mail: Terry.Walter@State.sd.us

TENNESSEE

Bill Duffey, Assistant Director, Department of Human Services, Child Support Services, Citizens Plaza Building, 12th Floor, 400 Deadrick Street, Nashville, TN 37248-7400, IVD Director's Phone: (615) 313-6095 IVD Director's Fax: (615) 741-4165, In State Office Phone: (615) 313-4880 (800) 874-0530 (payments), Nationwide Office Phone:, Office Fax: (615) 532-2791, E-Mail: bduffey@mail.state.tn.us

TEXAS

Howard Baldwin, Director, Office of the Attorney General, Child Support Division, P.O. Box 12017, (Street Address: 5500 E. Oltorf, Austin, TX 78741) Austin, TX 78711-2017, IVD Director's Phone: (512) 460-6000 IVD Director's Fax: (512) 460-6028, In State Office Phone: (512) 460-6000, Nationwide Office Phone: (800) 252-8014 Office Fax: (512) 834-9712, E-Mail: Howard.Baldwin@oag.state.tx.us

UTAH

James Kidder, Director, Department of Human Services, Bureau of Child Support Services, P.O. Box 45011, (515 East, 100 South, Salt Lake City, UT 84145-0011) Salt Lake, UT 84145-0011, IVD Director's Phone: (801) 536-8911 IVD Director's Fax: (801) 536-8509, In State Office Phone: (801) 536-8500, Nationwide Office Phone: (800) 257-9156, Office Fax: (801) 536-5809, E-Mail: hsorsslc.jkidder@state.ut.us

VERMONT

Jeffery Cohen, Director, Office of Child Support, 103 South Main Street, Waterbury, VT 05671-1901, IVD Director's Phone: (802) 241-2319 IVD Director's Fax: (802) 244-1483, In State Office Phone: (802) 244-1483, Nationwide Office Phone: (800) 786-3214, Office Fax: (802) 244-1483, E-Mail: jeffc@wpgate1.ahs.state.vt.us

VIRGIN ISLANDS

Cisselon D Nichols, Director, Department of Justice, Paternity and Child Support Division, Nisky Center, Suite 500, 2nd Floor, 48B-50C Krondprans Gade, St. Thomas, VI 00802, IVD Director's Phone: (340) 775-3070 IVD Director's Fax: (340) 775-3808, In State Office Phone: (340) 775-4339, Nationwide Office Phone:, Office Fax: (340) 775-9710, E-Mail: jimncissy@worldnet.att.net

VIRGINIA

Nathaniel Young, Jr., Director, Department of Social Services, Division of Child Support Enforcement, 730 East Broad Street, Richmond, VA 23219, IVD Director's Phone: (804) 692-1501 IVD Director's Fax: (804) 692-1543, In State Office Phone: (804) 692-1428 (800) 468-8894, Nationwide Office Phone:, Office Fax: (804) 692-1405, E-Mail: NLY900@dcse.dss.state.va.us

WASHINGTON

Meg Sollenberger, Director, DSHS, Division of Child Support, P.O. Box 9162, (Street Address: 712 Pear St., SE, Olymmpia, WA 98507), Olympia, WA 98507, IVD Director's Phone: (360) 664-5441 IVD Director's Fax: (360) 586-3274, In State Office Phone: (360) 664-5005, Nationwide Office Phone: (800) 457-6202, Office Fax: (206) Seattle Area Code, E-Mail: msollenb@dshs.wa.gov

WEST VIRGINIA

Lena S Hill, Commissioner, Department of Health & Human Resources, Bureau of Child Support Enforcement, Building 6, Room 817, State Capitol Complex, Charleston, WV 25305, IVD Director's Phone: (304) 558-3780 IVD Director's Fax: (304) 558-4092 In State Office Phone: (304) 558-3780, Nationwide Office Phone: (800) 249-3778, Office Fax: E-Mail: lenashill@wvdhhr.org

WISCONSIN

Susan Pfeiffer, Director, Bureau of Child Support, Division of Economic Support, P.O. Box 7935, (Street Address; 1 West Wilson Steet, Room 382, Madison, WI 53707), Madison, WI 53707-7935, IVD Director's Phone: (608) 266-9909 IVD Director's Fax: (608) 267-2824, In State Office Phone: (608) 266-9909, Nationwide Office Phone:, Office Fax: (608) 267-2824 E-Mail: pfiefsu@dwd.state.wi.us

WYOMING

Susan Lehman, Administrator, Department of Family Services, Child Support Enforcement Program, Hathaway Building, Rm 361, 2300 Capital Avenue, Cheyenne, WY 82002-0710, IVD Director's Phone: (307) 777-6948, IVD Director's Fax: (307) 777-3693, In State Office Phone: (307) 777-7631, Nationwide Office Phone: (800) 457-3659, Office Fax: (307) 777-3693, E-Mail: slehma@state.wy.us

BILLING CODE 4184-01-P

[FR Doc. 00-20187 Filed 8-9-00; 8:45 am]

BILLING CODE 4184-01-C